DEPARTMENT OF THE TREASURY

Privacy Act of 1974; Systems of Records

AGENCY: Department of the Treasury.

ACTION: Notice of systems of records.

SUMMARY: In accordance with the requirements of the Privacy Act of 1974, as amended, 5 U.S.C. 552a, the Department is publishing its Privacy Act systems of records.

SUPPLEMENTARY INFORMATION: Pursuant to the Privacy Act of 1974, 5 U.S.C. 552a and the Office of Management and Budget (OMB) Circular No. A-130, the Department has completed a review of its Privacy Act systems of records notices to identify minor changes that will more accurately describe these records. Minor changes throughout the document are editorial in nature and consist principally of changes to system locations, system manager addresses, and revisions to organizational titles. The Treasury-wide notices were last published in their entirety on January 2, 2014, at 79 FR 183.

Four systems of records have been amended or added to the Department's inventory of Privacy Act notices since January 2, 2014, as follows: Treasury .004—Freedom of Information Act/Privacy Act Request Records (September 16, 2016 at 81 FR 63856); Treasury .015—General Information Technology Access Account Records (January 14, 2015 at 80 FR 1988); Treasury .016—Reasonable Accommodations Records (April 28, 2014 at 79 FR 23405 and February 24, 2015 at 80 FR 9853); and, Treasury .017—Correspondence and Contact Information (June 18, 2015 at 80 FR 34963).

Treasury .004—Freedom of Information Act/Privacy Act Request Records has been amended to include the Internal Revenue Service (IRS), to facilitate the disclosure of non- tax information to The Office of Government Information Services (OGIS) within the National Archives and Records Administration in accordance with routine use, “(10) To the National Archives and Records Administration, Office of Government Information Services (OGIS), to the extent necessary to fulfill its responsibilities in 5 U.S.C. 552(b), to review administrative agency policies, procedures and compliance with the Freedom of Information Act (FOIA), and to facilitate OGIS' offering of mediation services to resolve disputes between making FOIA requests and administrative agencies.”

OGIS serves as a mediator between the various federal agencies that administer the FOIA and the requester. In that capacity, OGIS may come to the IRS to discuss specifics of a request and accordingly that discussion will involve access to the specific non-tax records. Adding IRS to the list of system managers authorizes IRS a discretionary authority to disclose to OGIS purely non-tax, Privacy Act protected information about FOIA requests. It will not authorize disclosure of any tax return or return information. Therefore, OGIS must obtain valid IRC 6103(c) disclosure consent from FOIA requesters before IRS can disclose to OGIS any returns or return information pertaining to any FOIA request.

Treasury .015—General Information Technology Access Account Records has been added to the inventory. The system enables Treasury to maintain: Account information required for approved access to information technology; lists of individuals who are appropriate organizational points of contact; and lists of individuals who are emergency points of contact. In addition, the system will enable Treasury to collect records allowing individuals access to certain meetings and programs where supplemental information is required and, where appropriate, to facilitate collaboration by allowing individuals in the same operational program to share information.

Treasury .016—Reasonable Accommodations Records has been added to the inventory. The purpose of this system of records is to allow Treasury and its bureaus to collect and maintain records on applicants for employment as well as current employees (including contractors and interns) and members of the public who request or receive reasonable accommodations from the Treasury and its Bureaus under the Rehabilitation Act of 1973 and the Americans with Disabilities Act Amendments Act of 2008 (ADAAA). Reasonable accommodations are modifications or adjustments that will allow applicants and employees to apply for a job, perform job duties, and/or enjoy the benefits and privileges of employment. Reasonable accommodations are also made for individuals who seek to participate and/or participate in Treasury programs and activities or attend meetings and events at Treasury facilities. The system will also be used to track processing of requests for reasonable accommodations only to the extent necessary to ensure Treasury-wide compliance with applicable laws and regulations while preserving and maintaining the confidentiality and privacy of all information (e.g., medical information) provided in support of accommodation request.

Treasury .017—Correspondence and Contact Information was added to the inventory. The systems are maintained for the purpose of mailing informational literature or responses to those who request it; maintaining lists of individuals who attend Treasury sponsored events, conferences, work activities, or events in which Treasury or one of its bureaus or offices participated, including meetings or conferences; and for other purposes for which mailing or contact lists may be created.

In addition, as part of this biennial review, the Department has updated three systems of records, adding the Special Inspector General for the Troubled Asset Relief Program (SIGTARP) to Treasury .001—Treasury Payroll and Personnel System and Treasury .010—Telephone Call Detail Records. These changes also include removing SIGTARP from Treasury .003—Treasury Child Care Tuition Assistance Records, because SIGTARP does not collect, maintain, or use child care tuition assistance records.

The systems notices are reprinted in their entirety following the Table of Contents. Systems covered by this notice:

This notice covers all systems of records maintained by the Departmental of the Treasury as of November 7, 2016. The system notices are reprinted in their entirety following the Table of Contents.

Ryan Law,
Acting Deputy Assistant Secretary for Privacy, Transparency, and Records, Department of the Treasury.

Table of Contents

Treasury .001—Treasury Payroll and Personnel System

Treasury .002—Grievance Records

Treasury .003—Treasury Child Care Tuition Assistance Records

Treasury .004—Freedom of Information Act/Privacy Act Request Records

Treasury .005—Public Transportation Incentive Program Records

Treasury .006—Parking and Carpool Program Records

Treasury .007—Personnel Security System

Treasury .009—Treasury Fiscal Service Systems

Treasury .010—Telephone Call Detail Records

Treasury .011—Treasury Safety Incident Management Information System (SIMIS)

Treasury .012—Fiscal Service Public Key Infrastructure

Treasury .013—Department of the Treasury Civil Rights Complaints and Compliance Review Files

Treasury .014—Department of the Treasury SharePoint User Profile Services

Treasury .015—General Information Technology Access Records

Treasury .016—Reasonable Accommodations Records

Treasury .017—Correspondence and Contact Information

TREASURY .001

System name:

Treasury Personnel and Payroll System—Treasury.

System location:

The Shared Development Center of the Treasury Personnel/Payroll System is located at 1750 Pennsylvania Avenue NW., Suite 1300, Washington, DC 20220. The Treasury Personnel System processing site is located at the Internal Revenue Service Detroit Computing Center, 985 Michigan Avenue, Detroit, MI 48226. The Treasury Payroll processing site is located at the United States Department of Agriculture National Finance Center, 13800 Old Gentilly Road, New Orleans, LA 70129.

The locations at which the system is maintained by all Treasury components and their associated field offices are:

(1) Departmental Offices (DO):

a. 1500 Pennsylvania Ave. NW., Washington, DC 20220.

b. The Office of Inspector General (OIG): 740 15th Street NW., Washington, DC 20220.

c. Special Inspector General for the Troubled Asset Relief Program (SIGTARP), 1801 L Street NW., Washington, DC 20220.

d. Treasury Inspector General for Tax Administration (TIGTA): 1125 15th Street NW., Suite 700A, Washington, DC 20005.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): Avery Street Building, 320 Avery Street, Parkersburg, WV, and 801 9th St. NW., Washington DC 20220.

(8) Bureau of Public Debt (BPD): 999-E Street NW., Washington, DC 20239.

(9) Financial Crimes Enforcement Network (FinCEN), Vienna, VA 22183-0039.

Categories of individuals covered by the system:

(1) Employees, former employees, and applicants for employment, in all Treasury Department bureaus and offices. (2) Employees, former employees, and applicants for employment of Federal agencies for which the Treasury Department is a cross-services provider.

Categories of records in the system:

Information contained in this system includes such data as:

(1) Employee identification and status data such as name, records that establish an individual's identity, social security number, date of birth, sex, race and national origin designator, awards received, suggestions, work schedule, type of appointment, education, training courses attended, veterans preference, and military service; (2) employment data such as service computation for leave, date probationary period began, date of performance rating, performance contract, and date of within-grade increases; (3) position and pay data such as position identification number, pay plan, step, salary and pay basis, occupational series, organization location, and accounting classification codes; (4) payroll data such as earnings (overtime and night differential), deductions (Federal, state and local taxes, bonds and allotments), and time and attendance data; (5) employee retirement and Thrift Savings Plan data; (6) employment history, and (7) tables of data for editing, reporting and processing personnel and pay actions. These include nature of action codes, civil service authority codes, standard remarks, signature block table, position title table, financial organization table, and salary tables.

Authority for maintenance of the system:

5 U.S.C. 301; 31 U.S.C. 321; Homeland Security Presidential Directive 12 (HSPD-12), and Treasury Directive 80-05, Records and Information Management Program.

Purpose(s):

The purposes of the system include, but are not limited to: (1) Maintaining current and historical payroll records that are used to compute and audit pay entitlement; to record history of pay transactions; to record deductions, leave accrued and taken, bonds due and issued, taxes paid; maintaining and distributing Leave and Earnings statements; commence and terminate allotments; answer inquiries and process claims; and (2) maintaining current and historical personnel records and preparing individual administrative transactions relating to education and training; classification; assignment; career development; evaluation; promotion, compensation, separation and retirement; making decisions on the rights, benefits, entitlements and the utilization of individuals; providing a data source for the production of reports, statistical surveys, rosters, documentation, and studies required for the orderly personnel administration within Treasury; (3) maintaining employment history; and (4) perform personnel and payroll functions for Federal agencies for which Treasury is a cross-services provider and to conduct activities necessary to carry-out the official HR line of business for all Federal departments and agencies that are serviced by the National Finance Center (NFC).

Routine uses of records maintained in the system, including categories of users and the purposes of such uses:

These records may be used to:

(1) Furnish data to the Department of Agriculture, National Finance Center (which provides payroll and personnel processing services for Treasury under a cross-servicing agreement) affecting the conversion of Treasury employee payroll and personnel processing services; the issuance of paychecks to employees and distribution of wages; and the distribution of allotments and deductions to financial and other institutions, some through electronic funds transfer;

(2) Furnish the Internal Revenue Service and other jurisdictions which are authorized to tax employees' compensation with wage and tax information in accordance with a withholding agreement with the Department of the Treasury pursuant to 5 U.S.C. 5516, 5517, and 5520, for the purpose of furnishing employees with IRS Forms W-2 that report such tax distributions;

(3) Provide records to the Office of Personnel Management, Merit Systems Protection Board, Equal Employment Opportunity Commission, and General Accounting Office for the purpose of properly administering Federal personnel systems or other agencies' systems in accordance with applicable laws, Executive Orders, and regulations;

(4) Furnish another Federal agency with information necessary or relevant to effect interagency salary or administrative offset, except that addresses obtained from the Internal Revenue Service shall not be disclosed to other agencies; to furnish a consumer reporting agency information to obtain commercial credit reports; and to furnish a debt collection agency information for debt collection services. Current mailing addresses acquired from the Internal Revenue Service are routinely released to consumer reporting agencies to obtain credit reports and are arguably relevant to debt collection agencies for collection services;

(5) Disclose information to a Federal, state, local, or foreign agency maintaining civil, criminal, or other relevant enforcement information or other pertinent information, that has requested information relevant to or necessary to the requesting agency's hiring or retention of an individual, or issuance of a security clearance, license, contract, grant, or other benefit;

(6) Disclose information to a court, magistrate, or administrative tribunal in the course of presenting evidence, including disclosures to opposing counsel or witnesses in the course of civil discovery, litigation or settlement negotiations in response to a subpoena where arguably relevant to a proceeding, or in connection with criminal law proceedings;

(7) Disclose information to foreign governments in accordance with formal or informal international agreements;

(8) Provide information to a congressional office in response to an inquiry made at the request of the individual to whom the record pertains;

(9) Provide information to the news media in accordance with guidelines contained in 28 CFR 50.2, which relates to civil and criminal proceedings;

(10) Provide information to third parties during the course of an investigation to the extent necessary to obtain information pertinent to the investigation;

(11) Provide information to unions recognized as exclusive bargaining representatives under the Civil Service Reform Act of 1978, 5 U.S.C. 7111 and 7114;

(12) Provide wage and separation information to another agency, such as the Department of Labor or Social Security Administration, as required by law for payroll purposes;

(13) Provide information to a Federal, state, or local agency so that the agency may adjudicate an individual's eligibility for a benefit, such as a state employment compensation board, housing administration agency, and Social Security Administration;

(14) Disclose pertinent information to appropriate Federal, state, local or foreign agencies responsible for investigating or prosecuting the violation of, or for implementing, a statute, regulation, order, or license, where the disclosing agency becomes aware of a potential violation of civil or criminal law or regulation;

(15) Disclose information about particular Treasury employees to requesting agencies or non-Federal entities under approved computer matching efforts, limited only to those data elements considered relevant to making a determination of eligibility under particular benefit programs administered by those agencies or entities or by the Department of the Treasury or any constituent unit of the Department, to improve program integrity, and to collect debts and other money owed under those programs (e.g., matching for delinquent loans or other indebtedness to the government);

(16) Disclose to the Office of Child Support Enforcement, Administration for Children and Families, Department of Health and Human Services, the names, social security numbers, home addresses, dates of birth, dates of hire, quarterly earnings, employer identifying information, and State of hire of employees, for the purposes of locating individuals to establish paternity, establishing and modifying orders of child support, identifying sources of income, and for other child support enforcement activities as required by the Personal Responsibility and Work Opportunity Reconciliation Act (Welfare Reform Law, Pub. L. 104-193);

(17) Disclose information to contractors, grantees, experts, consultants, students, and others performing or working on a contract, service, grant, cooperative agreement, or other assignment for the Department of the Treasury, when necessary to accomplish an agency Function;

(18) Disclose information to other Federal agencies with whom the Department has entered into a cross servicing agreement that provides for the delivery of automated human resources operations. These operations may include maintaining current and historical payroll and personnel records, and providing reports, statistical surveys, rosters, documentation, and studies as required by the other federal agency to support its personnel administration activities; and

(19) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to consumer reporting agencies:

Disclosures may be made pursuant to 5 U.S.C. 552a(b)(12) and section 3 of the Debt Collection Act of 1982, Public Law 97-365; debt information concerning a government claim against an individual is also furnished, in accordance with 5 U.S.C. 552a(b)(12) and section 3 of the Debt Collection Act of 1982, to consumer reporting agencies to encourage repayment of an overdue debt. Disclosures may be made to a consumer reporting agency as defined in the Fair Credit Reporting Act, 15 U.S.C. 1681a(f), or the Federal Claims Collection Act of 1966, 31 U.S.C. 701(a)(3).

Policies and practices for storing, retrieving, accessing, retaining, and disposing of records in the system:

Storage:

Electronic records, microfiche, and hard copy. Disbursement records are stored at the Federal Records Center.

Retrievability:

Records are retrieved generally by social security number, position identification number within a bureau/agency and sub-organizational element, employee identification or employee name. Secondary identifiers are used to assure accuracy of data accessed, such as master record number or date of birth.

Safeguards:

Entrances to data centers and support organization offices are restricted to those employees whose work requires them to be there for the system to operate. Identification (ID) cards are verified to ensure that only authorized personnel are present. Disclosure of information through remote terminals is restricted through the use of passwords and sign-on protocols, which are periodically changed. Reports produced from the remote printers are in the custody of personnel and financial management officers and are subject to the same privacy controls as other documents of similar sensitivity.

Retention and disposal:

The current payroll and personnel system and the personnel and payroll system's master files are kept as electronic media. Information rendered to hard copy in the form of reports and payroll information documentation is also retained in an electronic media format. Employee records are retained in automated form for as long as the employee is active on the system (separated employee records are maintained in an “inactive” status). Files are purged in accordance with Treasury Directive 80-05, “Records and Information Management Program.”

System manager(s) and address:

Department of the Treasury: Official prescribing policies and practices: Chief Human Capital Officer/Deputy Assistant Secretary for Human Resources, 1750 Pennsylvania Avenue NW., Washington, DC 20220.

The systems managers for the Treasury components are:

(1) a. DO: Deputy Assistant Secretary for Human Resources/Chief Human Capital Officer, 1500 Pennsylvania Avenue NW., Washington, DC 20220.

b. OIG: Personnel Officer, 740 15th Street NW., Suite 500, Washington, DC 20220.

c. SIGTARP: Special Inspector General for the Troubled Asset Relief Program, 1801 L. Street NW., Washington, DC 20220.

d. TIGTA: Director, Human Resources, 1125 15th Street NW., Suite 700A, Washington, DC 20005.

(2) TTB: Chief, Personnel Division, 1310 G St. NW., Washington, DC 20220.

(3) OCC: Director, Human Resources, 400 7th Street SW., Washington, DC 20024.

(4) BEP: Chief, Office of Human Resources, 14th & C Streets SW., Room 202-13A, E&P Annex, Washington, DC 20228.

(5) FS: Director, Personnel Management Division, 3700 East-West Hwy., Room 115-F, Hyattsville, MD 20782.

(6) IRS: Associate Director, Transactional Processing Operations, 1111 Constitution Avenue NW., CP6, A:PS:TP, 2nd Floor, Washington, DC 20224.

(7) MINT: Associate Director for Workforce Solutions, 801 9th Street NW., 7th Floor, Washington, DC 20220.

(8) FinCEN: Chief of Personnel and Training, Vienna, VA 22183-0039.

A list of the Federal agencies for which Treasury is a cross-services provider and their respective system managers may be obtained by contacting the Chief Human Capital Officer/Deputy Assistant Secretary for Human Resources, at the address shown above.

Notification procedure:

(1) Employees, former employees or applicants of the Department of the Treasury seeking notification and access to any record contained in the system of records, or seeking to contest its content, may inquire in accordance with instructions pertaining to individual Treasury components appearing at 31 CFR part 1, subpart C, appendices A-L. (2) Employees of other Federal agencies for which Treasury is a cross-services provider may request notification, access and amendment of their records through the personnel office at their home agency. (See “System manager” above).

Record access procedures:

See “Notification procedure” above.

Contesting record procedures:

See “Notification procedure” above.

Record source categories:

The information contained in these records is provided by or verified by the subject of the record, supervisors, and non-Federal sources such as private employers.

Exemptions claimed for the system:

None.

TREASURY .002

System name:

Grievance Records—Treasury.

System location:

Department of the Treasury, 1500 Pennsylvania Ave. NW., Washington, DC 20220. These records are located in personnel or designated offices in the bureaus in which the grievances were filed.

The locations at which the system is maintained are:

(1) a. Departmental Offices (DO): 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L Street NW., Washington, DC 20220.

(2) Alcohol and Tobacco Tax and Trade Bureau (TTB): 1310 G St. NW., Washington, DC 20220.

(3) Office of the Comptroller of the Currency (OCC): 400 7th Street SW., Washington, DC 20024

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(8) Bureau of the Public Debt (BPD): Avery Street Building, 320 Avery Street Parkersburg, WV 26101.

(9) Financial Crimes Enforcement Network (FinCEN), Vienna, VA 22183-0039.

Categories of individuals covered by the system:

Current or former Federal employees who have submitted grievances with their bureaus in accordance with part 771 of the Office of Personnel Management's (OPM) regulations (5 CFR part 771), the Treasury Employee Grievance System (TPM Chapter 771), or a negotiated procedure.

Categories of records in the system:

The system contains records relating to grievances filed by Treasury employees under part 771 of the OPM's regulations. These case files contain all documents related to the grievance including statements of witnesses, reports of interviews and hearings, examiner's findings and recommendations, a copy of the original and final decision, and related correspondence and exhibits. This system includes files and records of internal grievance and arbitration systems that bureaus and/or the Department may establish through negotiations with recognized labor organizations.

Authority for maintenance of the system:

5 U.S.C. 1302, 3301, 3302; E.O. 10577; 3 CFR 1954-1958 Comp., p. 218; E.O. 10987; 3 CFR 1959-1963 Comp., p. 519; agency employees, for personal relief in a matter of concern or dissatisfaction which is subject to the control of agency management.

Purpose(s):

To adjudicate employee administrative grievances filed under the authority of 5 CFR part 771 and the Department's Administrative Grievance Procedure.

Routine uses of records maintained in the system, including categories of users and the purposes of such uses:

These records may be used:

(1) To disclose pertinent information to the appropriate Federal, state, or local agency responsible for investigating, prosecuting, enforcing, or implementing a statute, rule, regulation, or order, where the disclosing agency becomes aware of an indication of a violation or potential violation of civil or criminal law or regulation;

(2) To disclose information to any source from which additional information is requested in the course of processing in a grievance, to the extent necessary to identify the individual, inform the source of the purpose(s) of the request, and identify the type of information requested;

(3) To disclose information to a Federal agency, in response to its request, in connection with the hiring or retention of an individual, the issuance of a security clearance, the conducting of a security or suitability investigation of an individual, the classifying of jobs, the letting of a contract, or the issuance of a license, grant, or other benefit by the requesting agency, to the extent that the information is relevant and necessary to requesting the agency's decision on the matter;

(4) To provide information to a congressional office in response to an inquiry made at the request of the individual to whom the record pertains;

(5) To disclose information to another Federal agency or to a court when the Government is party to a judicial proceeding before the court;

(6) By the National Archives and Records Administration in records management inspections conducted under authority of 44 U.S.C. 2904 and 2908;

(7) By the bureau maintaining the records of the Department in the production of summary descriptive statistics and analytical studies in support of the function for which the records are collected and maintained, or for related work force studies. While published statistics and studies do not contain individual identifiers, in some instances the selection of elements of data included in the study may be structured in such a way as to make the data individually identifiable by inference;

(8) To disclose information to officials of the Merit Systems Protection Board, the Office of the Special Counsel, the Federal Labor Relations Authority and its General Counsel, the Equal Employment Opportunity Commission, or the Office of Personnel Management when requested in performance of their authorized duties;

(9) To disclose information to a court, magistrate, or administrative tribunal in the course of presenting evidence, including disclosures to opposing Counsel or witnesses in the course of civil discovery, litigation or settlement negotiations in response to a court order, or in connection with criminal law proceedings;

(10) To provide information to officials of labor organizations reorganized under the Civil Service Reform Act when relevant and necessary to their duties of exclusive representation concerning personnel policies, practices, and matters affecting work conditions.

(11) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

File folders.

Retrievability:

Records may be retrieved by the names of individuals in the system.

Safeguards:

Lockable metal filing cabinets to which only authorized personnel have access.

Retention and disposal:

Disposed of three years after the grievance filed closes. Disciplinary adverse actions are retained by the United States Secret Service for four years. Disposal is by shredding or burning.

System manager(s) and address:

Records pertaining to administrative grievances filed at the Departmental level: Director, Office of Human Resources Strategy and Solutions, 1750 Pennsylvania Ave. NW., Suite 1200, Washington, DC 20220. Records pertaining to administrative grievances filed at the bureau level:

(1) a. DO: Director, Office of Human Resources for Departmental Offices, 1500 Pennsylvania Ave. NW., Room 5202—Main Treasury, Washington, DC 20220.

b. OIG: Personnel Officer, 740 15th St. NW., Rm. 510, Washington, DC 20220.

c. TIGTA: Director, Human Capital and Support Services, 1125 15th Street NW., Suite 700A, Washington, DC 20005.

(2) Alcohol and Tobacco Tax and Trade Bureau (TTB): 1310 G St. NW., Washington, DC 20220.

(3) OCC: Director, Human Resources, 400 7th Street SW., Washington, DC 20024

(4) BEP: Chief, Office of Human Resources, 14th & C Streets SW., Room 202-13A, E&P Annex, Washington, DC 20228.

(5) FS: Director, Personnel Management Division, 3700 East-West Hwy., Room 115-F, Hyattsville, MD 20782.

(6) IRS: Director, Office of Workforce Relations (M:S:L), 1111 Constitution Ave. NW., Room 1515IR, Washington, DC 20224.

(7) Mint: Associate Director for Workforce Solutions, 801 9th Street NW., 3rd Floor, Washington, DC 20220.

(8) BPD: Director, Human Resources Operations Division, Avery Street Building, 320 Avery Street, Parkersburg, WV 26101.

(9) FinCEN: Director, P.O. Box 39, Vienna, VA 22183-0039.

Notification procedure:

It is required that individuals submitting grievances be provided a copy of the record under the grievance process. They may, however, contact the agency personnel or designated office where the action was processed, regarding the existence of such records on them. They must furnish the following information for their records to be located and identified: (1) Name, (2) date of birth, (3) approximate date of closing of the case and kind of action taken, (4) organizational component involved.

Record access procedures:

It is required that individuals submitting grievances be provided a copy of the record under the grievance process. However, after the action has been closed, an individual may request access to the official copy of the grievance file by contacting the bureau personnel or designated office where the action was processed. Individuals must provide the following information for their records to be located and identified: (1) Name, (2) date of birth, (3) approximate date of closing of the case and kind of action taken, (4) organizational component involved.

Contesting record procedures:

Review of requests from individuals seeking amendment of their records which have been the subject of a judicial or quasi-judicial action will be limited in scope. Review of amendment requests of these records will be restricted to determining if the record accurately documents the action of the agency ruling on the case, and will not include a review of the merits of the action, determination, or finding.

Individuals wishing to request amendment to their records to correct factual errors should contact the bureau personnel or designated office where the grievance was processed. Individuals must furnish the following information for their records to be located and identified: (1) Name, (2) date of birth, (3) approximate date of closing of the case and kind of action taken, (4) organizational component involved.

Record source categories:

Information in this system of records is provided: (1) By the individual on whom the record is maintained, (2) by testimony of witnesses, (3) by agency officials, (4) from related correspondence from organizations or persons.

Exemptions claimed for the system:

None.

TREASURY .003

System name:

Treasury Child Care Tuition Assistance Records—Treasury.

System location:

Department of the Treasury, 1500 Pennsylvania Ave. NW., Washington, DC 20220. The locations at which the system is maintained by Treasury components are:

(1) a. Departmental Offices (DO): 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(8) Bureau of the Public Debt (BPD): Avery Street Building, 320 Avery Street, Parkersburg, WV.

Categories of individuals covered by the system:

Employees of the Department of the Treasury who voluntarily apply for child care tuition assistance, the employee's spouse, their children and their child care providers.

Categories of records in the system:

Records may include application forms for child care tuition assistance containing personal information, including employee (parent) name, Social Security Number, pay grade, home and work numbers, addresses, telephone numbers, total family income, names of children on whose behalf the parent is applying for tuition assistance, each child's date of birth, information on child care providers used (including name, address, provider license number and State where issued, tuition cost, and provider tax identification number), and copies of IRS Form 1040 and 1040A for verification purposes. Other records may include the child's social security number, weekly expense, pay statements, records relating to direct deposits, verification of qualification and administration for the child care tuition assistance.

Authority for maintenance of the system:

Public Law 106-58, section 643 and E.O. 9397.

Purpose(s):

To establish and verify Department of the Treasury employees' eligibility for child care subsidies in order for the Department of the Treasury to provide monetary assistance to its employees. Records are also maintained so the Department can make payments to child care providers on an employee's behalf.

Routine uses of records maintained in the system, including categories of users and the purposes of such uses:

These records may be used to:

(1) Disclose pertinent information to the appropriate Federal, State, or local agency responsible for investigating, prosecuting, enforcing, or implementing a statute, rule, regulation, or order, where the Department of the Treasury becomes aware of an indication of a violation or potential violation of civil or criminal law or regulation;

(2) Provide information to a congressional office from the record of an individual in response to an inquiry from that congressional office made at the request of that individual;

(3) Disclose information to another Federal agency, to a court, or a party in litigation before a court or in an administrative proceeding being conducted by a Federal agency, when the Government is a party to the judicial or administrative proceeding. In those cases where the Government is not a party to the proceeding, records may be disclosed if a subpoena has been signed by a judge;

(4) Disclose information to the National Archives and Records Administration for use in records management inspections;

(5) Disclose information to the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(6) Provide records to the Office of Personnel Management, Merit Systems Protection Board, Equal Employment Opportunity Commission, Federal Labor Relations Authority, the Office of Special Counsel, and General Accountability Office for the purpose of properly administering Federal personnel systems or other agencies' systems in accordance with applicable laws, Executive Orders, and regulations;

(7) Disclose information to contractors, grantees, or volunteers performing or working on a contract, service, grant, or cooperative agreement, or job for the Federal Government;

(8) Disclose information to a court, magistrate, or administrative tribunal when necessary and relevant in the course of presenting evidence, including disclosures to opposing counsel or witnesses in the course of civil discovery, litigation, or settlement negotiations or in connection with criminal law proceedings or in response to a subpoena;

(9) Disclose information to unions recognized as exclusive bargaining representatives under 5 U.S.C. chapter 71, and other parties responsible for the administration of the Federal labor-management program if needed in the performance of their authorized duties.

(10) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and disposal:

Disposition of records is according to the National Archives and Records Administration (NARA) guidelines.

System manager(s) and address:

Treasury official prescribing policies and practices: Director, Office of Human Resources Strategy and Solutions, 1750 Pennsylvania Ave. NW., Suite 1200, Department of the Treasury, Washington, DC 20220. Officials maintaining the system and records for the Treasury components are:

(1) DO:

a. Director, Office of Human Resources for Departmental Offices, 1500 Pennsylvania Ave. NW., Room 5202-MT, Washington, DC 20220.

b. Office of General Counsel: Administrative Officer, Department of the Treasury, Room 3000-MT, Washington, DC 20220.

c. OIG: Personnel Officer, 740 15th St. NW., Suite 510, Washington, DC 20220.

d. TIGTA: Director, Human Capital and Support Services, 1125 15th Street NW., Suite 700A, Washington, DC 20005.

(2) TTB: Assistant Administrator, Office of Management, 1310 G St. NW., Washington, DC 20220.

(3) OCC: Director, Human Resources Division, 400 7th Street SW., Washington, DC 20024.

(4) BEP: Chief, Office of Human Resources. 14th & C St. SW., Room 202-13a, Washington, DC 20228.

(5) FS: Director, Human Resources Division, PG Center II Bldg., Rm. 114f, 3700 East-West Highway, Hyattsville, MD 20782.

(6) IRS: Director Personnel Policy Division, 1111 Constitution Ave., Building CP6-M:S:P, Washington, DC 20224.

(7) MINT: Associate Director for Workforce Solutions, 801 9th Street NW., 3rd Floor, Washington, DC 20220.

(8) FS: Child Care Assistance Program (CCAP) Coordinator, Avery Street Building, 320 Avery Street, Parkersburg, WV 26101.

Notification procedure:

Individuals seeking notification and access to any record contained in the system of records, or seeking to contest its content, may inquire in accordance with instructions pertaining to individual Treasury components appearing at 31 CFR part 1, subpart C, appendices A-M.

Record access procedures:

See “Notification procedure” above.

Contesting Record procedures:

See “Notification procedure” above.

Record source categories:

Information is provided by Department of the Treasury employees who apply for child care tuition assistance.

Exemptions claimed for the system:

None.

TREASURY .004

System name:

Freedom of Information Act/Privacy Act Request Records—Treasury.

System location:

Department of the Treasury, 1500 Pennsylvania Avenue NW., Washington, DC 20220. The locations at which the system is maintained by Treasury components and their associated field offices are:

(1) Departmental Offices (DO), which includes the Office of Inspector General (OIG), the Community Development Financial Institutions Fund (CDFI), and Special Inspector General for the Troubled Asset Relief Program (SIGTARP);

(2) Alcohol and Tobacco Tax and Trade Bureau (TTB);

(3) Office of the Comptroller of the Currency (OCC);

(4) Bureau of Engraving and Printing (BEP);

(5) Fiscal Service (FS);

(6) United States Mint (MINT);

(7) Financial Crimes Enforcement Network (FinCEN);

(8) Treasury Inspector General for Tax Administration (TIGTA); and

(9) Internal Revenue Service (IRS).

Categories of individuals covered by the system:

Individuals who have: (1) Requested access to records pursuant to the Freedom of Information Act, 5 U.S.C. 552 (FOIA), or who have appealed initial denials of their requests; and/or (2) made a request for access, amendment, or other action pursuant to the Privacy Act of 1974, 5 U.S.C. 552a (PA).

Categories of records in the system:

Requests for records or information pursuant to the FOIA/PA, which includes the names of individuals making written or electronically submitted requests for records under the FOIA/PA; the contact information of the requesting individual such as their mailing address, email address, and/or phone number; and the dates of such requests and their receipt. Supporting records include the written correspondence received from requesters and responses made to such requests; internal processing documents and memoranda; referrals and copies of records provided or withheld; and may include legal memoranda and opinions. Comparable records are maintained in this system with respect to any appeals made from initial denials of access, refusal to amend records, and lawsuits under the FOIA/PA.

Authority for maintenance of the system:

Freedom of Information Act, 5 U.S.C. 552; Privacy Act of 1974, 5 U.S.C. 552a; and 5 U.S.C. 301.

Purpose(s):

The system is used by officials to administratively control and/or process requests for records to ensure compliance with the FOIA/PA and to collect data for the annual reporting requirements of the FOIA and other Departmental management report requirements. In addition, the system allows for online submission to expedite the consideration of requests.

Routine uses of records maintained in the system, including categories of users and the purposes of such uses:

These records may be used to:

(1) Disclose pertinent information to appropriate Federal, foreign, State, local, tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a court order, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency, or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, tribal, or other public authority or self-regulatory organization for the purpose of (a) consulting as to the propriety of access to or amendment or correction of information obtained from that authority or organization, or (b) verifying the identity of an individual who has requested access to or amendment or correction of records;

(7) Disclose information to contractors and other agents who have been engaged by the Department or one of its bureaus to provide products or services associated with the Department's or bureaus' responsibilities arising under the FOIA/PA;

(8) Disclose information to the National Archives and Records Administration for use in records management inspections;

(9) Disclose information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

(10) To the National Archives and Records Administration, Office of Government Information Services (OGIS), to the extent necessary to fulfill its responsibilities in 5 U.S.C. 552(b), to review administrative agency policies, procedures and compliance with the Freedom of Information Act (FOIA), and to facilitate OGIS' offering of mediation services to resolve disputes between persons making FOIA requests and administrative agencies.

Policies and practices for storing, retrieving, accessing, retaining, and disposing of records in the system:

Storage:

Electronic media, computer paper printout, index file cards, and paper records in file folders.

Retrievability:

Retrieved by name, subject, request file number, or other data element as may be permitted by an automated system.

Safeguards:

Protection and control of any sensitive but unclassified (SBU) records are in accordance with Treasury Directive Publication 71-10, Department of the Treasury Security Manual; DO P-910, Departmental Offices Information Technology Security Policy Handbook; Treasury Directive Publication 85-01, Treasury Information Technology Security Program; National Institute of Standards and Technology 800-122 and any supplemental guidance issued by individual bureaus; the National Institute of Standards and Technology Special Publication 800-53 Revision 3, Recommended Security Controls for Federal Information Systems and Organizations; and Guide to Protecting the Confidentiality of Personally Identifiable Information. Access to the records is available only to employees responsible for the management of the system and/or employees of program offices who have a need for such information.

Retention and disposal:

The records pertaining to FOIA/PA requests are retained and disposed of in accordance with the National Archives and Records Administration's General Record Schedule 14—Information Services Records.

System manager(s) and address:

Department of the Treasury: Official prescribing policies and practices—Departmental Disclosure Officer, Department of the Treasury, 1500 Pennsylvania Avenue NW., Washington, DC 20220.

The system managers for the Treasury components are:

(1) a. DO: Director, Disclosure Services, Department of the Treasury, Washington, DC 20220.

b. OIG: Director, Disclosure Services, Department of the Treasury, Washington, DC 20220.

c. CDFI: Director, Disclosure Services, Department of the Treasury, Washington, DC 20220.

d. SIGTARP: General Counsel, Office of the Special Inspector General for the Troubled Asset Relief Program, 1801 L Street NW., Washington, DC 20220.

(2) Alcohol and Tobacco Tax and Trade Bureau (TTB): 1310 G St. NW., Washington, DC 20220.

(3) BEP: Disclosure Officer, FOIA Office, 14th & C Streets SW., Washington, DC 20228.

(4) FS: Disclosure Officer, 401 14th Street SW., Washington, DC 20227.

(5) Mint: Disclosure Officer, 801 9th Street NW., 8th Floor, Washington, DC 20220.

(6) OCC: Disclosure Officer, Communications Division, 400 7th Street SW., Washington, DC 20024.

(7) FinCEN: P.O. Box 39, Vienna, VA 22183.

(8) TIGTA: Director, Human Capital and Support Services, 1401 H St. NW., Ste. 469, Washington, DC 20005.

(9) IRS: Internal Revenue Service Centralized Processing Unit—Stop 93A, Post Office Box 621506, Atlanta, GA 30362.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information contained in these files originates from individuals who make FOIA/PA requests and agency officials responding to those requests.

Exemptions claimed for the system:

None. Please note that the Department has claimed one or more exemptions (see 31 CFR 1.36) for a number of its other systems of records under 5 U.S.C. 552a(j)(2) and (k)(1), (2), (3), (4), (5), and (6). During the course of a FOIA/PA action, exempt materials from those other systems may become a part of the case records in this system. To the extent that copies of exempt records from those other systems have been recompiled and/or entered into these FOIA/PA case records, the Department claims the same exemptions for the records as they have in the original primary systems of records of which they are a part.

TREASURY .005

System name:

Public Transportation Incentive Program Records—Treasury.

System location:

Department of the Treasury, 1500 Pennsylvania Avenue NW., Washington, DC 20220. The locations at which the system is maintained by Treasury bureaus and their associated field offices are:

(1) a. Departmental Offices (DO): 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L Street NW., Washington, DC 20220.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th St. NW., Washington, DC 20220.

(8) Bureau of the Public Debt (BPD): Avery Street Building, 320 Avery Street, Parkersburg, WV 26101.

(9) Financial Crimes Enforcement Network (FinCEN), Vienna, VA 22182.

Categories of individuals covered by the system:

Employees who have applied for or who participate in the Public Transportation Incentive Program.

Categories of records in the system:

(1) Public Transportation Incentive Program application form containing the participant's name, last four digits of the social security number, or for IRS employees the Standard Employee Identifier (SEID) issued by the IRS, place of residence, office address, office telephone, grade level, duty hours, previous method of transportation, costs of transportation, and the type of fare incentive requested. Incentives authorized under the Federal Workforce Transportation Program may be included in this program.

(2) Reports submitted to the Department of the Treasury in accordance with Treasury Directive 74-10.

Authority for maintenance of the system:

5 U.S.C. 301, 26 U.S.C. 132(f), and Public Law 101-509.

Purpose(s):

The records are used to administer the public transportation incentive or subsidy programs provided by Treasury bureaus for eligible employees. The system also enables the Department to compare these records with other Federal agencies to ensure that employee transportation programs benefits are not abused.

Routine uses of records maintained in the system, including categories of users and the purposes of such uses:

These records may be used to disclose information to:

(1) Appropriate Federal, state, local, or foreign agencies responsible for investigating or prosecuting the violations of, or for enforcing or implementing, a statute, rule, regulation, order or license;

(2) A court, magistrate, or administrative tribunal in the course of presenting evidence, including disclosures to opposing counsel or witnesses in the course of civil discovery, litigation, or settlement negotiations, in response to a court-ordered subpoena where relevant or potentially relevant to a proceeding, or in connection with criminal law proceedings;

(3) A congressional office in response to an inquiry made at the request of the individual to whom the record pertains;

(4) Unions recognized as exclusive bargaining representatives under the Civil Service Reform Act of 1978, 5 U.S.C. 7111 and/or 7114;

(5) Agencies, contractors, and others to administer Federal personnel or payroll systems, and for debt collection and employment or security investigations;

(6) Other Federal agencies for matching to ensure that employees receiving PTI Program benefits are not listed as a carpool or vanpool participant, the holder of a parking permit; and to prevent the program from being abused;

(7) The Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) The Office of Personnel Management, the Merit Systems Protection Board, the Equal Employment Opportunity Commission, and the Federal Labor Relations Authority or other third parties when mandated or authorized by statute; and

(9) A contractor for the purpose of compiling, organizing, analyzing, programming, or otherwise refining records to accomplish an agency function subject to the same limitations applicable to U.S. Department of Treasury officers and employees under the Privacy Act;

(10) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Paper records, file folders and/or electronic media.

Retrievability:

By name of individual, badge number or office.

Safeguards:

Access is limited to authorized employees. Files are maintained in locked safes and/or file cabinets. Electronic records are password-protected. During non-work hours, records are stored in locked safes and/or cabinets in locked room.

Retention and disposal:

Active records are retained indefinitely. Inactive records are held for three years and then destroyed.

System manager(s) and address:

The system managers for the Treasury bureaus are:

(1) Departmental Offices:

a. Director, Occupational Safety and Health Office, Room 6204 Annex, 1500 Pennsylvania Ave. NW., Washington, DC 20220.

b. Office of Inspector General: Office of Assistant Inspector for Management Services, Office of Administrative Services, Suite 510, 740 15th St. NW., Washington, DC 20220.

c. TIGTA: Director, Human Capital and Support Services, 1125 15th Street NW., Suite 700A, Washington, DC 20005.

(2) TTB: Alcohol and Tobacco Tax and Trade Bureau: 1310 G St. NW., Washington, DC 20220.

(3) BEP: Chief, Office of Human Resources, Bureau of Engraving and Printing, 14th and C Streets SW., Washington, DC 20228.

(4) OCC: Building Manager, Building Services, Office of the Comptroller of the Currency, 400 7th Street SW., Washington, DC 20024.

(5) FMS: Director, Administrative Programs Division, Financial Management Service, 3700 East West Hwy., Room 144, Hyattsville, MD 20782.

(6) IRS: Official prescribing policies and practices—Chief, National Office, Protective Program Staff, Director, Personnel Policy Division, 2221 S. Clark Street-CP6, Arlington, VA 20224. Officials maintaining the system—Supervisor of local offices where the records reside. (See IRS Appendix A for addresses.)

(7) Mint: Office of Procurement and Support Services Division, Support Services Branch, 801 9th St. NW., 2nd Floor, Washington, DC 20220.

(8) BPD: Director, Division of Administrative Services, Avery Street Building, 320 Avery Street, Parkersburg, WV 26101.

(9) FinCEN: Director, P.O. Box 39, Vienna, VA 22183-0039.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The source of the records is from employees who have applied for the transportation incentive, the incentive program managers and other appropriate agency officials, or other Federal agencies.

Exemptions claimed for the system:

None.

TREASURY .006

System name:

Parking and Carpool Program Records—Treasury.

System location:

Department of the Treasury, 1500 Pennsylvania Avenue NW., Washington, DC 20220. The locations at which the system is maintained by Treasury bureaus and their associated field offices are:

(1) a. Departmental Offices (DO): 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L Street NW., Washington, DC 20220.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(8) Bureau of the Public Debt (BPD): 799 E Street NW., Washington, DC 20239.

Categories of individuals covered by the system:

Current employees of the Department and individuals from other government agencies or private sector organizations who may use, or apply to use, parking facilities or spaces controlled by the Department. Individuals using handicapped or temporary guest parking controlled by the Department.

Categories of records in the system:

Records may include the name, position title, manager's name, organization, vehicle identification, arrival and departure time, home addresses, office telephone numbers, social security numbers, badge number, and service computation date or length of service with a component of an individual or principal carpool applicant. Contains name, place of employment, duty telephone, vehicle license number and service computation date of applicants, individuals or carpool members. For parking spaces, permit number, priority group (handicapped, job requirements/executive officials (SES) or carpool/vanpool). Medical information may also be included when necessary to determine disability of applicant when applying for handicapped parking spaces.

Authority for maintenance of the system:

5 U.S.C. 301; 44 U.S.C. 3101; Treasury Department Order No. 165, revised as amended. Federal Property and Administrative Services Act of 1949, as amended.

Purpose(s):

The records are used to administer parking, carpool and vanpool programs within the Department. The system enables the Department to allocate and check parking spaces assigned to government or privately-owned vehicles operated by visitors, handicapped personnel, key personnel, and employees eligible to participate in a parking program and carpools or vanpools. The Department is also able to compare these records with other Federal agencies to ensure parking privileges or other employee transportation benefits are not abused.

Routine uses of records maintained in the system, including categories of users and the purposes of such uses:

These records may be used to disclose information to:

(1) Appropriate Federal, State, local, or foreign agencies, or other public authority responsible for investigating or prosecuting the violations of or for enforcing or implementing a statute, rule, regulation, order, or license, where the disclosing agency becomes aware of an indication of a violation or potential violation of civil or criminal law or regulation;

(2) A Congressional office in response to an inquiry made at the request of the individual to whom the record pertains;

(3) A physician for making a determination on a person's eligibility for handicapped parking;

(4) A contractor who needs to have access to this system of records to perform an assigned activity;

(5) Parking coordinators of Government agencies and private sector organizations for verification of employment and participation of pool members;

(6) Unions recognized as exclusive bargaining representatives under the Civil Service Reform Act of 1978, 5 U.S.C. 7111 and 7114;

(7) Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) Third parties when mandated or authorized by statute or when necessary to obtain information that is relevant to an inquiry concerned with the possible abuse of parking privileges or other employee transportation benefits;

(9) A court, magistrate, or administrative tribunal in the course of presenting evidence, including disclosures to opposing counsel or witnesses in the course of civil discovery, litigation, or settlement negotiations or in connection with criminal law proceedings or in response to a court order where relevant or potentially relevant to a proceeding, and

(10) Officials of the Merit Systems Protection Board, the Federal Labor Relations Authority, the Equal Employment Opportunity Commission or the Office of Personnel Management when requested in the performance of their authorized duties.

(11) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Hard copy and/or electronic media.

Retrievability:

Name, address, social security number, badge number, permit number, vehicle tag number, and agency name or organization code on either the applicant or pool members as needed by a bureau. Records are filed alphabetically by location.

Safeguards:

Paper records are maintained in locked file cabinets. Access is limited to personnel whose official duties require such access and who have a need to know the information in a record for a job-related purpose Access to computerized records is limited, through use of a password, to those whose official duties require access. Protection and control of sensitive but unclassified (SBU) records are in accordance with TD P 71-10, Department of the Treasury Security Manual, and any supplemental guidance issued by individual bureaus. The IRS access controls will not be less than those provided by the Automated Information System Security Handbook, IRM 2(10)00, and the Manager's Security Handbook, IRM 1(16)12.

Retention and disposal:

Generally, record maintenance and disposal is in accordance with NARA General Retention Schedule 11, and any supplemental guidance issued by individual components. Disposal of manual records is by shredding or burning; electronic data is erased. Destroyed upon change in, or revocation of, parking assignment. For the IRS, records are maintained in accordance with Records Control Schedule 301—General Records Schedule 11, Space and Maintenance Records, Item 4(a), IRM 1(15)59.31.

System manager(s) and address:

The system managers for the Treasury components are:

(1) DO:

a. Director, Occupational Safety and Health Office, Room 6204 Annex, 1500 Pennsylvania Ave. NW., Washington, DC 20220.

b. OIG: Director, Administrative Services Division, Office of Management Services, Room 510, 740 15th Street NW., Washington, DC 20220.

c. TIGTA: Director, Human Capital and Support Services, 1125 15th Street NW., Suite 700A, Washington, DC 20005.

(2) TTB: Alcohol and Tobacco Tax and Trade Bureau: 1310 G St. NW., Washington, DC 20220.

(3) OCC: Building Manager, Building Services, Office of the Comptroller of the Currency, 400 7th Street SW., Washington, DC 20024

(4) BEP: Chief, Office of Security, Bureau of Engraving and Printing, 14th and C Streets SW., Washington, DC 20228.

(5) FMS: Director, Administrative Programs Division, 3700 East West Highway, Hyattsville, MD 20782.

(6) IRS: Chief, Security and Safety Branch; Regional Commissioners, District Directors, Internal Revenue Service Center Directors, and Computing Center Directors. (See IRS Appendix A for addresses.)

(7) MINT: Office of Procurement and Support Services Division, Support Services Branch, 801 9th St. NW., 2nd Floor, Washington, DC 20220.

(8) BPD: Director, Washington Support Services, Bureau of the Public Debt, 799 E Street NW., Washington, DC 20239.

Notification procedure:

Individuals seeking notification and access to any record contained in the system of records, or seeking to contest its content, may inquire in accordance with instructions pertaining to individual Treasury components appearing at 31 CFR part 1, subpart C, appendices A-M.

Record access procedures:

See “Notification procedure” above.

Contesting record procedures:

See “Notification procedure” above.

Record source categories:

Parking permit applicants, members of carpools or vanpools, other Federal agencies, medical doctor if disability determination is requested.

Exemptions claimed for the system:

None.

TREASURY .007

System name:

Personnel Security System—Treasury.

System location:

Department of the Treasury, 1500 Pennsylvania Avenue NW., Room 3180 Annex, Washington, DC 20220, in the Office of Security Programs (and other office locations identified below) which is responsible for making suitability, fitness, security clearance, access, and Homeland Security Presidential Directive-12 (HSPD-12) credentialing decisions. Other locations at which the system is maintained by Treasury bureaus and their associated offices are:

(1) Departmental Offices (DO):

a. 1500 Pennsylvania Avenue NW., Room 3180 Annex, Washington, DC 20220.

b. Special Inspector General for the Troubled Asset Relief Program (SIGTARP): 1801 L Street NW., Washington, DC 20220.

(2) Office of Inspector General (OIG): 320 Avery Street, Parkersburg, West Virginia 26101.

(3) Treasury Inspector General for Tax Administration (TIGTA): 1401 H Street NW., Suite 469, Washington, DC 20005.

(4) Alcohol and Tobacco Tax and Trade Bureau (TTB): 1310 G Street NW., Washington, DC 20220.

(5) Office of the Comptroller of the Currency (OCC): 400 7th Street SW., Washington, DC 20219.

(6) Bureau of Engraving and Printing (BEP): 14th & C Streets SW., Washington, DC 20228.

(7) Bureau of the Fiscal Service (BFS): Security Operations Division, Personnel Security Branch, 3700 East West Highway, Hyattsville, Maryland and BFS at 320 Avery Street, Parkersburg, West Virginia 26101.

(8) United States Mint (MINT): 801 9th Street NW., Washington, DC 20220.

(9) Financial Crimes Enforcement Network (FinCEN), Vienna, Virginia 22183-0039.

(10) Internal Revenue Service (IRS), 1111 Constitution Avenue NW., Washington, DC 20224.

Categories of individuals covered by the system:

(1) Current and former government employees, applicants, consultants, experts, contractor personnel occupying sensitive positions in the Department; (2) current and former U.S. Executive Directors and Alternates employed at International Financial Institutions; (3) personnel who are appealing a denial or a revocation of a Treasury-issued security clearance; (4) employees and contractor personnel who have applied for the HSPD-12 Personal Identity Verification (PIV) Card; (5) individuals who are not Treasury employees, but who are or were involved in Treasury Department programs under a co-operative assignment or under a similar agreement, and State, Local, Tribal and Private sector partners identified by Treasury sponsors for eligibility to access classified information in support of homeland defense initiatives.

Categories of records in the system:

(1) Applicable records containing the following information within background investigations relating to personnel investigations conducted by the Office of Personnel Management, select Treasury bureaus (IRS, Mint and BEP) and other Federal agencies and departments on a pre-placement and post-placement basis to make suitability, fitness, and HSPD-12 PIV determinations and for granting security clearances, i.e., individual's name, former names and aliases; date and place of birth; social security number; height; weight; hair and eye color; gender; mother's maiden name; current and former home addresses, phone numbers, and email addresses; employment history; military record information; selective service registration record; residential history; education and degrees earned; names of associates and references with their contact information; citizenship; passport information; criminal history; civil court actions; prior security clearance and investigative information; mental health history; records related to drug and/or alcohol use; financial record information; information from the IRS pertaining to income tax returns; credit reports; the name, date and place of birth, social security number, and citizenship information for spouse or cohabitant; the name and marriage information for current and former spouse(s); the citizenship, name, date and place of birth, and address for relatives; information on foreign contacts and activities; association records; information on loyalty to the United States; and other agency reports furnished to Treasury in connection with the background investigation process, and other information developed from the above; (2) summaries of personal and third party interviews conducted during the course of the background investigation; (3) previously used card index records comprised of Notice of Personnel Security Investigation (OS F 67-32.2); (4) signed Classified Information Non-disclosure Agreement (SF 311), and related supplemental documents for those persons issued a security clearance; (5) completed Security Orientation Acknowledgment (TD F 15-05.01) for persons having received initial security training on safeguarding classified information ; (6) an automated data system reflecting identification data on incumbents and former employees, disclosure and authorization forms, and record of investigations, level and date of security clearance, if any, as well as status of investigations; (7) records pertaining to suspensions or an appeal of a denial or a revocation of a Treasury-issued security clearance; (8) records pertaining to the personal identification verification process mandated by HSPD-12 and the issuance, denial or revocation of a PIV card; and (9) records of personnel background investigations conducted by other Federal agencies.

Authority for maintenance of the system:

Sections 2 & 3, Executive Order 10450, Executive Order 12968, as amended, and HSPD-12.

Purpose(s):

(1) The records in this system are used to provide investigatory information for determinations concerning whether an individual is suitable or fit for Government employment; eligible for logical and physical access to Treasury controlled facilities and information systems; eligible to hold sensitive positions (including but not limited to eligibility for access to classified information); fit to perform work for or on behalf of the U.S. Government as a contractor; qualified to perform contractor services for the U.S. Government; or loyal to the United States; (2) additionally, these records are used to ensure the Treasury is upholding the highest standards of integrity, loyalty, conduct, and security among its employees and contract personnel; (3) the records may be used to help streamline and make the adjudicative process more efficient; and (4) to otherwise conform with applicable legal, regulatory and policy authorities.

Routine uses of records maintained in the system, including categories of users and the purposes of such uses:

All or a portion of the Treasury records contained in this system may be used to disclose information to: (1) Designated officers and employees of agencies, offices, and other establishments in the executive, legislative and judicial branches of the Federal government, when such agency, office, or establishment conducts an investigation of the individual for purposes of granting a security clearance, or for the purpose of making a determination of qualifications, suitability, fitness, or issuance of an HSPD-12 PIV card for physical and/or logical access to facilities/IT systems or restricted areas; to determine access to classified information and/or in connection with performance of a service to the Federal government under a contract or other agreement; (2) pursuant to the order of a court of competent jurisdiction; (3) the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected; (4) a congressional office in response to a written inquiry made at the request of the individual to whom the record pertains; (5) to another agency or to an instrumentality of any governmental jurisdiction within or under the control of the United States for a civil or criminal law enforcement activity if the activity is authorized by law, and if the head of the agency or instrumentality has made a written request to the Treasury component which maintains the record specifying the particular portion desired and the law enforcement activity for which the record is sought; (6) the Office of Personnel Management, Merit Systems Protection Board, Equal Employment Opportunity Commission, Federal Labor Relations Authority, and the Office of Special Counsel for the purpose of properly administering Federal personnel systems or other agencies' systems in accordance with applicable laws, Executive Orders, and regulations; and (7) to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with Treasury's efforts to respond to the suspected or confirmed compromise and prevent, minimize, or remedy such harm.

Policies and practices for storing, retrieving, accessing, retaining, and disposing of records in the system:

Storage:

Records are maintained in paper format in file folders, on index cards, magnetic media and in electronic database in the Personnel Security System, and the e-QIP system.

Retrievability:

Records are retrieved by name.

Safeguards:

Paper records are stored in locked metal containers and in locked rooms. Electronic records are password protected. Access is limited to authorized Treasury security officials who have a need to know in the performance of their official duties and whose background investigations have been favorably adjudicated before they are allowed access to the records.

Retention and disposal:

The records on government employees and contractor personnel are retained for the duration of their employment at the Treasury Department. The records on applicants not selected and separated employees are destroyed or sent to the Federal Records Center in accordance with General Records Schedule 18.

System manager(s) and address:

Department of the Treasury Official prescribing policies and practices: Director, Office of Security Programs, 1500 Pennsylvania Avenue NW., Room 3180 Annex, Washington, DC 20220.

The system managers for the Treasury bureau components are:

(1) Departmental Offices:

a. Chief, Personnel Security, 1500 Pennsylvania Avenue NW., Room 3180 Annex, Washington, DC 20220.

b. SIGTARP: Director, Human Resources, 1801 L Street NW., Washington, DC 20220.

(2) OIG: Personnel Officer, 740 15th Street NW., Suite 510, Washington, DC 20220.

(3) TIGTA: Personnel Security Officer, 1401 H Street NW., Suite 469, Washington, DC 20005.

(4) TTB: Alcohol and Tobacco Tax and Trade Bureau: Director of Security and Emergency Preparedness 1310 G Street NW., Washington, DC 20220.

(5) BFS: Director, Division of Security and Emergency Preparedness, Director, Division of Human Resources Operations Division, Avery Street Building, 320 Avery Street, Parkersburg, West Virginia 26101 and Director, Administrative Programs Division, 3700 East West Highway, Hyattsville, Maryland 20782.

(6) OCC: Director, Administrative Services Division, 400 7th Street SW., Washington, DC 20219.

(7) BEP: Chief, Office of Security, 14th & C Streets NW., Washington, DC 20228.

(8) Mint: Associate Director for Protection, 801 9th Street NW., 8th Floor, Washington, DC 20220.

(9) FinCEN: Director, Vienna, Virginia 22183-0039.

(10) IRS: Director, Personnel Security, 1111 Constitution Avenue NW., Washington, DC 20224.

Notification procedure:

Individuals seeking notification and access to any record contained in the system of records, or seeking to contest its content, may inquire in accordance with instructions pertaining to individual Treasury components appearing at 31 CFR part 1, subpart C, appendices A-N.

Record Access procedures:

See “Notification procedure” above.

Contesting Record procedures:

See “Notification procedure” above.

Record source categories:

The information provided by individual employees, consultants, experts and contractors (including the results of in-person interviews) whose files are on record as authorized by those concerned, information obtained from current and former employers, co-workers, neighbors, acquaintances, educational records and instructors, and police and credit record checks.

Exemptions claimed for the system:

This system is exempt from 5 U.S.C. 552a(c)(3), (d)(1), (2), (3), and (4), (e)(1), (e)(4)(G), (H), and (I), and (f) of the Privacy Act pursuant to 5 U.S.C. 552a(k)(5). (See 31 CFR 1.36.)

TREASURY .009

System name:

Treasury Fiscal Service Systems—Treasury.

System location:

Department of the Treasury, 1500 Pennsylvania Ave. NW., Washington, DC 20220. The locations at which the system is maintained by Treasury components and their associated field offices are:

(1) Departmental Offices (DO):

a. Office of Financial Management, Attn: Met Sq. Bldg., 6th Fl., 1500 Pennsylvania Avenue NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L. Street NW., Washington, DC 20220.

e. Community Development Financial Institutions Fund (CDFI): 601 13th Street NW., Suite 200 South, Washington, DC 20005.

f. Federal Financing Bank (FFB): 1500 Pennsylvania Avenue NW., South Court One, Washington, DC 20220.

g. Office of International Affairs (IA): 1500 Pennsylvania Avenue NW., Room 5441D, Washington, DC 20220.

h. Treasury Forfeiture Fund: 740 15th Street NW., Suite 700, Washington, DC 20220.

i. Treasury Franchise Fund: Avery Street Building, 320 Avery Street, Parkersburg, WV 26101.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(8) Bureau of the Public Debt (BPD): Avery Street Building, 320 Avery Street, Parkersburg, WV 26101.

(10) Financial Crimes Enforcement Network (FinCEN), Vienna, VA 22183-0039.

Categories of individuals covered by the system:

(1) Current and former Treasury employees, non-Treasury personnel on detail to the Department, current and former vendors, all debtors including employees or former employees; (2) persons paying for goods or services, returning overpayment or otherwise delivering cash; (3) individuals, private institutions and business entities who are currently doing business with, or who have previously conducted business with the Department of the Treasury to provide various goods and services; (4) individuals who are now or were previously involved in tort claims with Treasury; (5) individuals who are now or have previously been involved in payments (accounts receivable/revenue) with Treasury; and (6) individuals who have been recipients of awards. Only records reflecting personal information are subject to the Privacy Act. The system also contains records concerning corporations, other business entities, and organizations whose records are not subject to the Privacy Act.

Categories of records in the system:

The financial systems used by the Treasury components to collect, maintain and disseminate information include the following types of records: Routine billing, payment, property accountability, and travel information used in accounting and financial processing; administrative claims by employees for lost or damaged property; administrative accounting documents, such as relocation documents, purchase orders, vendor invoices, checks, reimbursement documents, transaction amounts, goods and services descriptions, returned overpayments, or otherwise delivering cash, reasons for payment and debt, travel-related documents, training records, uniform allowances, payroll information, etc., which reflect amount owed by or to an individual for payments to or receipt from business firms, private citizens and or institutions. Typically, these documents include the individual's name, social security number, address, and taxpayer identification number. Records in the system also include employment data, payroll data, position and pay data.

Authority for maintenance of the system:

31 U.S.C. 3512, 31 U.S.C. 3711, 31 U.S.C. 3721, 5 U.S.C. 5701 et seq., 5 U.S.C. 4111(b), Public Law 97-365, 26 U.S.C. 6103(m)(2), 5 U.S.C. 5514, 31 U.S.C. 3716, 31 U.S.C. 321, 5 U.S.C. 301, 5 U.S.C. 4101 et seq., 41 CFR parts 301-304, EO 11348, and Treasury Order 140-01.

Purpose(s):

The Treasury Integrated Financial Management and Revenue System is to account for and control appropriated resources; maintain accounting and financial information associated with the normal operations of government organizations such as billing and follow-up, for paying creditors, to account for goods and services provided and received, to account for monies paid and received, process travel authorizations and claims, process training claims, and process employee claims for lost or damaged property. The records management and statistical analysis subsystems provide a data source for the production of reports, statistical surveys, documentation and studies required for integrated internal management reporting of costs associated with the Department's operation.

Routine uses of records maintained in the system, including categories of users and the purposes of such uses:

These records may be used to disclose information:

(1) To appropriate Federal, State, local, or foreign agencies, or other public authority responsible for investigating or prosecuting the violations of or for enforcing or implementing a statute, rule, regulation, order, or license, where the disclosing agency becomes aware of an indication of a violation or potential violation of civil or criminal law or regulation;

(2) To the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation and the use of such records by the Department of Justice is therefore deemed by the agency to be for a purpose that is compatible with the purpose for which the agency collected the records;

(3) To a Federal, State, local, or other public authority maintaining civil, criminal or other relevant enforcement information or other pertinent information, which has requested information relevant to or necessary to the requesting agency's, bureau's, or authority's hiring or retention of an individual, or issuance of a security clearance, license, contract, grant, or other benefit;

(4) In a proceeding before a court, adjudicative body, or other administrative body before which the agency is authorized to appear when: (a) The agency, or (b) or any component thereof, or (c) any employee of the agency in his or her official capacity, or (d) any employee of the agency in his or her individual capacity where the Department of Justice or the agency has agreed to represent the employee; or (e) the United States, when the agency determines that litigation is likely to affect the agency, is a party to litigation or has an interest in such litigation, and the use of such records by the agency is deemed to be relevant and necessary to the litigation or administrative proceeding and not otherwise privileged;

(5) To a Congressional office in response to an inquiry made at the request of the individual to whom the record pertains;

(6) To the news media in accordance with guidelines contained in 28 CFR 50.2 which pertain to an agency's functions relating to civil and criminal proceedings;

(7) To third parties during the course of an investigation to the extent necessary to obtain information pertinent to the investigation;

(8) To a public or professional licensing organization when such information indicates, either by itself or in combination with other information, a violation or potential violation of professional standards, or reflects on the moral, educational, or professional qualifications of an individual who is licensed or who is seeking to become licensed;

(9) To a contractor for the purpose of compiling, organizing, analyzing, programming, processing, or otherwise refining records subject to the same limitations applicable to U.S. Department of the Treasury officers and employees under the Privacy Act;

(10) To a court, magistrate, or administrative tribunal in the course of presenting evidence, including disclosures to opposing counsel or witnesses in the course of civil discovery, litigation, or settlement negotiations or in connection with criminal law proceedings or in response to a court order;

(11) Through a computer matching program, information on individuals owing debts to the Department of the Treasury, or any of its components, to other Federal agencies for the purpose of determining whether the debtor is a Federal employee or retiree receiving payments which may be used to collect the debt through administrative or salary offset;

(12) To other Federal agencies to effect salary or administrative offset for the purpose of collecting debts, except that addresses obtained from the IRS shall not be disclosed to other agencies;

(13) To disclose information to a consumer reporting agency, including mailing addresses obtained from the Internal Revenue Service, to obtain credit reports;

(14) To a debt collection agency, including mailing addresses obtained from the Internal Revenue Service, for debt collection services;

(15) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals, or if needed in the performance of other authorized duties;

(16) To a public or professional auditing organization for the purpose of conducting financial audit and/or compliance audits;

(17) To a student participating in a Treasury student volunteer program, where such disclosure is necessary to support program functions of Treasury, and

(18) To insurance companies or other appropriate third parties, including common carriers and warehousemen, in the course of settling an employee's claim for lost or damaged property filed with the Department.

(19) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to consumer reporting agencies:

Disclosures made pursuant to 5 U.S.C. 552a(b)(12): Debt information concerning a government claim against an individual may be furnished in accordance with 5 U.S.C. 552a(b)(12) and section 3 of the Debt Collection Act of 1982 (Pub. L. 97-365) to consumer reporting agencies to encourage repayment of an overdue debt.

Policies and practices for storing, retrieving, accessing, retaining, and disposing of records in the system:

Storage:

Paper, microform and electronic media.

Retrievability:

Name, social security number, vendor ID number, and document number (travel form, training form, purchase order, check, invoice, etc.).

Safeguards:

Protection and control of sensitive but unclassified (SBU) records in this system is in accordance with TD P 71-10, Department of the Treasury Security Manual, and any supplemental guidance issued by individual components.

Retention and disposal:

Record maintenance and disposal is in accordance with National Archives and Records Administration retention schedules, and any supplemental guidance issued by individual components.

System manager(s) and address:

(1) DO: a. Director, Financial Management Division, 1500 Pennsylvania Avenue NW., Attn: 1310 G Street, 2nd floor, Washington, DC 20220.

b. OIG: Assistant Inspector General for Management, 740 15th St. NW., Suite 510, Washington, DC 20220.

c. TIGTA: Director, Finance and Accountability, 1125 15th Street NW., Suite 700A, Washington, DC 20005.

d. SIGTARP: Chief Financial Officer, 1801 L Street NW., Washington, DC 20220.

e. CDFI Fund: Deputy Director for Management/CFO, 601 13th Street NW., Suite 200 South, Washington, DC 20005.

f. FFB: Chief Financial Officer, 1500 Pennsylvania Avenue NW., South Court One, Washington, DC 20220.

g. IA: Deputy Senior Director, Business Operations, 1500 Pennsylvania Avenue NW., Room 5127A, Washington, DC 20220.

h. Treasury Forfeiture Fund: Assistant Director for Financial Management/CFO, 740 15th Street NW., Suite 700, Washington, DC 20220.

i. Treasury Franchise Fund: Director, Division of Franchise Services, Bureau of the Public Debt, 320 Avery Street, Parkersburg, WV 26101.

(2) TTB: Alcohol and Tobacco Tax and Trade Bureau: 1310 G St. NW., Washington, DC 20220.

(3) IRS: Chief Financial Officer, Internal Revenue Service, 1111 Constitution Avenue NW., Room 3013, Washington, DC 20224.

(4) BPD: Director, Division of Financial Management, Bureau of Public Debt, Avery Street Building, 320 Avery Street, Parkersburg, WV.

(5) OCC: Chief Financial Officer, Comptroller of the Currency, 400 7th Street SW., Washington, DC 20024 (6) BEP: Chief Financial Officer, Bureau of Engraving and Printing, 14th and C Streets NW., Room 113M, Washington, DC 20228.

(7) FMS: Chief Financial Officer, Financial Management Service, 3700 East West Highway, Room 106A, Hyattsville, MD 20782.

(8) Mint: Chief Financial Officer, United States Mint, 801 9th Street NW., 7th Floor, Washington, DC 20220.

(9) FinCEN: Director, P. O. Box 39, Vienna, VA 22183-0039.

Notification procedure:

Individuals seeking notification and access to any record contained in the system of records, or seeking to contest its content, may inquire in accordance with instructions pertaining to individual Treasury components appearing at 31 CFR part 1, subpart C, appendices A-M.

Record access procedures:

See “Notification procedure” above.

Contesting record procedures:

See “Notification procedure” above.

Record source categories:

Individuals, private firms, other government agencies, contractors, documents submitted to or received from a budget, accounting, travel, training or other office maintaining the records in the performance of their duties.

Exemptions claimed for the system:

None.

TREASURY .010

System name:

Telephone Call Detail Records—Treasury.

System location:

Department of the Treasury, 1500 Pennsylvania Ave. NW., Washington, DC 20220. The locations at which the system is maintained by Treasury components and their associated field offices are:

(1) Departmental Offices (DO):

a. 1500 Pennsylvania Ave. NW., Washington, DC 20220.

b. Special Inspector General for the Troubled Asset Relief Program (SIGTARP), 1801 L Street NW., Washington, DC 20220.

c. Treasury Inspector General for Tax Administration (TIGTA): 1125 15th St. NW., Suite 700A, Washington, DC 20005.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Financial Crimes Enforcement Network (FinCEN): Vienna, Virginia 22182.

(6) Fiscal Service (FS): 401 14th Street SW., Washington, DC 20227.

(7) Internal Revenue Service (IRS): 1111 Constitution Avenue NW., Washington, DC 20224.

(8) United States Mint (MINT): 801 9th Street NW., Washington, DC 20220.

Categories of individuals covered by the system:

Individuals (generally agency employees and contractor personnel) who make local and/or long distance calls, individuals who received telephone calls placed from or charged to agency telephones.

Categories of records in the system:

Records relating to the use of Department telephones to place local and/or long distance calls, whether through the Federal Telecommunications System (FTS), commercial systems, or similar systems; including voice, data, and videoconference usage; telephone calling card numbers assigned to employees; records of any charges billed to Department telephones; records relating to location of Department telephones; and the results of administrative inquiries to determine responsibility for the placement of specific local or long distance calls. Telephone calls made to any Treasury Office of Inspector General Hotline numbers are excluded from the records maintained in this system pursuant to the provisions of 5 U.S.C., Appendix 3, Section 7(b) (Inspector General Act of 1978).

Authority for maintenance of the system:

12 U.S.C. 1, 12 U.S.C. 93a, 12 U.S.C. 481, 5 U.S.C. 301 and 41 CFR 201-21.6.

Purpose(s):

The Department, in accordance with 41 CFR 201-21.6, Use of Government Telephone Systems, established the Telephone Call Detail program to enable it to analyze call detail information for verifying call usage, to determine responsibility for placement of specific long distance calls, and for detecting possible abuse of the government-provided long distance network.

Routine uses of records maintained in the system, including categories of users and the purposes of such uses:

These records and information from these records may be disclosed:

(1) To representatives of the General Services Administration or the National Archives and Records Administration who are conducting records management inspections under authority of 44 U.S.C. 2904 and 2906;

(2) To employees or contractors of the agency to determine individual responsibility for telephone calls;

(3) To appropriate Federal, State, local, or foreign agencies responsible for investigating or prosecuting the violations of, or for enforcing or implementing a statute, rule, regulation, order, or license, or where the disclosing agency becomes aware of an indication of a violation or potential violation of civil or criminal law or regulation;

(4) To a court, magistrate, or administrative tribunal in the course of presenting evidence, including disclosures to opposing counsel or witnesses in the course of civil discovery, litigation, or settlement negotiations, in response to a court order, or in connection with criminal law proceedings where relevant and necessary;

(5) To a telecommunications company providing telecommunication support to permit servicing the account;

(6) To another Federal agency to effect an interagency salary offset, or an interagency administrative offset, or to a debt collection agency for debt collection services. Mailing addresses acquired from the Internal Revenue Service may be released to debt collection agencies for collection services, but shall not be disclosed to other government agencies;

(7) To the Department of Justice for the purpose of litigating an action or seeking legal advice;

(8) In a proceeding before a court, adjudicative body, or other administrative body, before which the agency is authorized to appear when: (a) The agency, or (b) any employee of the agency in his or her official capacity, or (c) any employee of the agency in his or her individual capacity where the Department of Justice has agreed to represent the employee; or (d) the United States, when the agency determines that litigation is likely to affect the agency, is a party to the litigation or has an interest in such litigation, and the use of such records by the agency is deemed relevant and necessary to the litigation or administrative proceeding and not otherwise privileged;

(9) To a congressional office in response to an inquiry made at the request of the individual to whom the record pertains;

(10) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions or grievances or conducting administrative hearings or appeals or if needed in the performance of other authorized duties;

(11) To the Defense Manpower Data Center (DMDC), Department of Defense, the U.S. Postal Service, and other Federal agencies through authorized computer matching programs to identify and locate individuals who are delinquent in their repayment of debts owed to the Department, or one of its components, in order to collect a debt through salary or administrative offsets;

(12) In response to a Federal agency's request made in connection with the hiring or retention of an individual, issuance of a security clearance, license, contract, grant, or other benefit by the requesting agency, but only to the extent that the information disclosed is relevant and necessary to the requesting agency's decision on the matter.

(13) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to consumer reporting agencies:

Disclosures pursuant to 5 U.S.C. 522a(b)(12): Disclosures may be made from this system to “consumer reporting agencies” as defined in the Fair Credit Reporting Act (15 U.S.C. 1681(f)) or the Federal Claims Collections Act of 1966 (31 U.S.C. 3701(a)(3)).

Policies and practices for storing, retrieving, accessing, retaining, and disposing of records in the system:

Storage:

Microform, electronic media, and/or hard copy media.

Retrievability:

Records may be retrieved by: Individual name; component headquarters and field offices; by originating or terminating telephone number; telephone calling card numbers; time of day; identification number, or assigned telephone number.

Safeguards:

Protection and control of any sensitive but unclassified (SBU) records are in accordance with TD P 71-10, Department of the Treasury Security Manual, and any supplemental guidance issued by individual components.

Retention and disposal:

Records are maintained in accordance with National Archives and Records Administration General Records Schedule 3. Hard copy and microform media disposed by shredding or incineration. Electronic media erased electronically.

System manager(s) and address:

Department of the Treasury: Official prescribing policies and practices—Director, Customer Services Infrastructure and Operations, Department of the Treasury, Room 2150, 1425 New York Avenue NW., Washington, DC 20220. The system managers for the Treasury components are:

(1) a. DO: Chief, Telecommunications Branch, Automated Systems Division, Room 1121, 1500 Pennsylvania Avenue NW., Washington, DC 20220.

b. SIGTARP: Special Inspector General for the Troubled Asset Relief Program, 1801 L Street NW., Washington, DC 20220.

c. TIGTA: Director, Human Capital and Support Services, 1125 15th St. NW., Suite 700A, Washington, DC 20005.

(2) TTB: Alcohol and Tobacco Tax and Trade Bureau: 1310 G St. NW., Washington, DC 20220.

(3) OCC: Associate Director, Telecommunications, Systems Support Division, Office of the Comptroller of the Currency, 400 7th Street SW Washington, DC 20024.

(4) BEP: Deputy Associate Director (Chief Information Officer), Office of Information Systems, Bureau of Engraving and Printing, Room 104-24M, 14th and C Street SW., Washington, DC 20228.

(5) FS: Director, Platform Engineering Division, 3700 East West Highway, Hyattsville, MD 20782.

(6) IRS: Official prescribing policies and practices: National Director, Operations and Customer Support, Internal Revenue Service, 1111 Constitution Avenue NW., Washington, DC 20224. Office maintaining the system: Director, Detroit Computing Center, (DCC), 1300 John C. Lodge Drive, Detroit, MI 48226.

(7) Mint: Associate Director for Information Technology/CIO, 801 9th Street NW., Washington, DC 20220.

(8) FS: Official prescribing policies and practices: Assistant Commissioner (Office of Information Technology), 200 Third Street, Parkersburg, WV 26106-1328. Office maintaining the system: Division of Communication, 200 Third Street, Parkersburg, WV 26106-1328.

(9) FinCEN: Director, P.O. Box 39, Vienna, VA 22183-0039.

Notification procedure:

Individuals seeking notification and access to any record contained in the system of records, or seeking to contest its content, may inquire in accordance with instructions pertaining to individual Treasury components appearing at 31 CFR part 1, subpart C, appendices A-M.

Record access procedures:

Individuals seeking notification and access to any record contained in this system of records, or seeking to contest its content, may inquire in accordance with instructions pertaining to individual Treasury components appearing at 31 CFR part 1, subpart C, appendices A-M.

Contesting record procedures:

See “Notification procedure” above.

Record source categories:

Telephone assignment records, call detail listings, results of administrative inquiries to individual employees, contractors or offices relating to assignment of responsibility for placement of specific long distance or local calls.

Exemptions claimed for the system:

None.

TREASURY .011

System name:

Treasury Safety and Health Information Management System (SHIMS)—Treasury.

System location:

Department of the Treasury, 1500 Pennsylvania Ave. NW., Washington, DC 20220. Other locations at which the system is maintained by Treasury components and their associated field offices are:

(1) Departmental Offices (DO):

a. 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L Street NW., Washington, DC 20220.

e. Community Development Financial Institutions Fund (CDFI): 601 13th Street NW., Washington, DC 20005.

(2) Alcohol and Tobacco Tax and Trade Bureau (TTB): 1310 G St. NW., Washington, DC 20220.

(3) Office of the Comptroller of the currency (OCC): 400 7th Street SW., Washington, DC 20024 (4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(9) Financial Crimes Enforcement Network (FinCEN), Vienna, VA 22183-0039.

Categories of individuals covered by the system:

Current and past Treasury employees and contractors who are injured on Department of the Treasury property or while in the performance of their duties offsite. Members of the public who are injured on Department of the Treasury property are also included in the system.

Categories of records in the system:

Records in this system pertain to medical injuries and occupational illnesses of employees which include social security numbers, full names, job titles, government and home addresses (city, state, zip code), home telephone numbers, work telephone numbers, work shifts, location codes, and gender. Mishap information on environmental incidents, vehicle accidents, property losses and tort claims are also included. In addition, results of investigations, corrective actions, supervisory information, safety representatives' names, data as to chemicals used, processes affected, causes of losses, etc. are also included. Records relating to contractors include full name, job title, work addresses (city, state, zip code), work telephone number, location codes, and gender. Records pertaining to a member of the public include full name, home address (city, state, zip code), home telephone number, location codes and gender. (Official compensation claim file, maintained by the Department of Labor's Office of Workers' Compensation Programs (OWCP) is part of that agency's system of records and not covered by this notice.)

Authority for maintenance of the system:

5 U.S.C. 301, Executive Order 12196, section 1-2.

Purpose(s):

This system of records supports the development and maintenance of a Treasury-wide incident tracking and reporting system and will make it possible to streamline a cumbersome paper process. Current web technology will be employed and facilitate obtaining real-time data and reports related to injuries and illnesses. As an enterprise system for the Department and its component bureaus, incidents analyses can be performed instantly to affect a more immediate implementation of corrective actions and to prevent future occurrences. Information pertaining to past and all current employees and contractors injured on Treasury property or while in the performance of their duties offsite, as well as members of the public injured while on Federal property, will be gathered and stored in SIMIS. This data will be used for analytical purposes such as trend analysis, and the forecasting/projecting of incidents. The data will be used to generate graphical reports resulting from the analyses.

Routine uses of records maintained in the system, including categories of users and the purposes of such uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Office of Workers' Compensation Programs, Department of Labor, which is responsible for the administration of the Federal Employees' Worker Compensation Act (FECA);

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a court order where relevant or potentially relevant to a proceeding;

(9) Disclose information to unions recognized as exclusive bargaining representatives under 5 U.S.C. chapter 71, arbitrators, and other parties responsible for the administration of the Federal labor-management program if needed in the performance of their authorized duties;

(10) Disclose information to the Equal Employment Opportunity Commission, Merit Systems Protection Board, arbitrators, the Federal Labor Relations Authority, and other parties responsible for the administration of the Federal labor management program for the purpose of processing any corrective actions or grievances or conducting administrative hearings or appeals, or if needed in the performance of other authorized duties;

(11) Disclose information to a Federal, State, or local public health service agency as required by applicable law, concerning individuals who have contracted or who have been exposed to certain communicable diseases or conditions. Such information is used to prevent further outbreak of the disease or condition;

(12) Disclose information to representatives of the General Services Administration (GSA) or the National Archives and Records Administration (NARA) who are conducting records management inspections under authority of 44 U.S.C. 2904 and 2906.

(13) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

Storage:

Maintained in hardcopy and electronic media.

Retrievability:

Records can be retrieved by name, or by categories listed above under “Categories of records in the system.”

Safeguards:

Protection and control of any sensitive but unclassified (SBU) records are in accordance with TD P 7110, Department of the Treasury Security Manual. The hardcopy files and electronic media are secured in locked rooms. Access to the records is available only to employees responsible for the management of the system and/or employees of program offices who have a need for such information and have been subject to a background check and/or security clearance.

Retention and disposal:

Records are retained and disposed of in accordance with the appropriate National Archives and Records Administration General Records Schedule No. 1.

System manager(s) and address:

Department of the Treasury official prescribing policies and practices: SHIMS Program Manager, Office of Environment, Safety, and Health, Department of the Treasury, Washington, DC 20220. The system managers for the Treasury components are:

(1) DO: a. Program Manager, Office of Environment, Safety, and Health, Room 6000 Annex, 1500 Pennsylvania Ave. NW., Washington, DC 20220.

b. OIG: Safety and Occupational Health Manager, 740 15th Street NW., Washington, DC 20220.

c. TIGTA: Director, Human Capital and Support Services, 1125 15th Street NW., Suite 700A, Washington, DC 20005.

d. CDFI: Safety and Occupational Health Manager, 601 13th Street NW., Washington, DC 20005.

(2) TTB: Alcohol and Tobacco Tax and Trade Bureau: 1310 G St. NW., Washington, DC 20220.

(3) OCC: Safety and Occupational Health Manager, 400 7th Street SW., Washington, DC 20024; 400 7th Street SW., Washington, DC 20024.

(4) BEP: Safety and Occupational Health Manager, 14th & C Streets SW., Washington, DC 20228.

(5) FS: Safety and Occupational Health Manager, PG 3700 East-West Highway, Hyattsville, MD 20782.

(6) IRS: Safety and Occupational Health Manager, 1111 Constitution Avenue NW., Washington, DC 20224.

(7) MINT: Designated Safety and Health Official, 801 9th Street NW., Washington, DC 20220.

(9) FinCEN: Safety and Occupational Health Manager, P.O. Box 39, Vienna, VA 22183-0039.

Notification procedure:

Individuals seeking notification and access to any record contained in the system of records, or seeking to contest its content, may inquire in accordance with instructions pertaining to individual Treasury components appearing at 31 CFR part 1, subpart C, appendices, A-L.

Record access procedures:

See “Notification procedures” above.

Contesting record procedures:

See “Notification procedures” above.

Record source categories:

Information is obtained from current Treasury employees, contractors, members of the public, witnesses, medical providers, and relevant industry experts.

Exemptions claimed for the system:

None.

TREASURY .012

System Name:

Fiscal Service Public Key Infrastructure—Treasury.

System Location:

The system of records is located at:

(1) The Fiscal Service (FS), U.S. Department of the Treasury, in Parkersburg, WV, and,

(2) The Fiscal Service (FS), U.S. Department of the Treasury, Washington, DC, and Hyattsville, MD. The system managers maintain the system location of these records.

Categories of individuals covered by the system:

Digital certificates may be issued to any of the following individuals: A Federal agency certifying officer who authorizes vouchers for payment; Federal employees who approve the grantees' accounts; an individual authorized by a state or grantee organization to conduct business with the Fiscal Service; employees of the Fiscal Service; fiscal agents; and contractors.

Categories of records in the system:

The system contains information needed to establish accountability and audit control of digital certificates. It also contains records that are needed to authorize an individual's access to a Treasury network. Depending on the service(s) requested by the customer, information may also include:

Personal identifiers—name, including previous name used, and aliases; organization, employer name and address; Social Security number, Tax Identification Number; physical and electronic addresses; telephone, fax, and pager numbers; bank account information (name, type, account number, routing/transit number); Federal-issued photograph ID; driver's license information or state ID information (number, state, and expiration date); military ID information (number, branch, expiration date); or passport/visa information (number, expiration date, and issuing country).

Authentication aids—personal identification number, password, account number, shared-secret identifier, digitized signature, other unique identifier.

The system contains records on public key data related to the customer, including the creation, renewal, replacement or revocation of digital certificates, including evidence provided by applicants for proof of identity and authority, sources used to verify an applicant's identity and authority, and the certificates issued, denied and revoked, including reasons for denial and revocation.

Authority for maintenance of the system:

5 U.S.C. 301, 31 U.S.C. 321, and the Government Paperwork Elimination Act, Pub. L. 105-277.

Purposes:

We are establishing the Fiscal Service Public Key Infrastructure System to:

(1) Use electronic transactions and authentication techniques in accordance with the Government Paperwork Elimination Act;

(2) Facilitate transactions involving the transfer of information, the transfer of funds, or where parties commit to actions or contracts that may give rise to financial or legal liability, where the information is protected under the Privacy Act of 1974, as amended;

(3) Maintain an electronic system to facilitate secure, on-line communication between Federal automated systems, and between federal employees or contractors, by using digital signature technologies to authenticate and verify identity;

(4) Provide mechanisms for non-repudiation of personal identification and access to Treasury systems including, but not limited to SPS and ASAP; and

(5) Maintain records relating to the issuance of digital certificates utilizing public key cryptography to employees and contractors for purpose of the transmission of sensitive electronic material that requires protection.

Routine uses of records maintained in the system, including categories of users and the purposes of such uses:

These records may be disclosed to:

(1) Congressional offices in response to an inquiry made at the request of the individual to whom the record pertains;

(2) Appropriate Federal, State, local, or foreign agencies responsible for investigating or prosecuting the violations of, or for enforcing or implementing a statute, rule, regulation, order, or license, where the disclosing agency becomes aware of a potential violation of civil or criminal law or regulation;

(3) A court, magistrate, or administrative tribunal in the course of presenting evidence, including disclosures to opposing counsel or witnesses in the course of civil discovery, litigation, or settlement negotiations or in connection with criminal law proceedings or in response to a court order;

(4) A Federal, State, local or other public authority maintaining civil, criminal or other relevant enforcement information or other pertinent information, which has requested information relevant to or necessary to the requesting agency's, bureau's, or authority's, hiring or retention of an individual, or issuance of a security clearance, license, contract, grant or other benefit;

(5) Agents or contractors who have been engaged to assist the Department in the performance of a service related to this system of records and who need to have access to the records in order to perform the activity;

(6) The Department of Justice when seeking legal advice or when (a) the Department of the Treasury or (b) the disclosing agency, or (c) any employee of the disclosing agency in his or her official capacity, or (d) any employee of the agency in his or her individual capacity where the Department of Justice has agreed to represent the employee, or (e) the United States, where the disclosing agency determines that litigation is likely to affect the disclosing agency, is a party to litigation or has an interest in such litigation, and the use of such records by the Department of Justice is deemed by the agency to be relevant and necessary to the litigation; and

(7) Representatives of the National Archives and Records Administration (NARA) who are conducting records management inspections under authority of 44 U.S.C. 2904 and 2906.

(8) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records are maintained on electronic media, multiple client-server platforms that are backed-up to magnetic tape or other storage media, and/or hard copy.

Retrievability:

Records may be retrieved by name, alias name, Social Security number, Tax Identification Number, account number, or other unique identifier.

Safeguards:

These records are maintained in controlled access areas. Identification cards are verified to ensure that only authorized personnel are present. Electronic records are protected by restricted access procedures, including the use of passwords and sign-on protocols which are periodically changed. Only employees whose official duties require access are allowed to view, administer, and control these records. Copies of records maintained on computer have the same limited access as paper records.

Retention and disposal:

Records are maintained in accordance with National Archives and Records Administration retention schedules. Paper and microform records ready for disposal are destroyed by shredding or maceration. Records in electronic media are electronically erased using accepted techniques.

System managers and addresses:

(1) Assistant Commissioner, Office of Information Technology, Bureau of the Public Debt, 200 Third Street, Parkersburg, WV 26101, and,

(2) Assistant Commissioner, Information Resources, and Chief Information Officer, Financial Management Service, 3700 East West Highway, Hyattsville, MD 20782.

Notification procedure:

Individuals seeking notification and access to any record contained in the system of records, or seeking to contest its content, may inquire in accordance with instructions pertaining to individual Treasury components appearing at 31 CFR part 1, subpart C: Appendix I for records within the custody of the Bureau of the Public Debt, and, Appendix G for records within the custody of the Financial Management Service.

Record access procedures:

See “Notification procedure” above.

Contesting record procedures:

See “Notification procedure” above.

Record source categories:

The information contained in this system is provided by or verified by the subject individual of the record, as well as federal and non-federal sources such as private employers.

Exemptions claimed for the system:

None.

TREASURY .013

System name:

Department of the Treasury Civil Rights Complaints and Compliance Review Files.

System location:

These records are located in the Department of the Treasury's (Treasury) Office of Civil Rights and Diversity (OCRD), the Office of the General Counsel, and any other office within a Treasury bureau where a complaint is filed or where the action arose.

The locations at which the system is maintained are:

(1) a. Departmental Offices (DO): 1500 Pennsylvania Ave. NW., Washington, DC 20220.

b. The Office of Inspector General (OIG): 740 15th Street NW., Washington, DC 20220.

c. Treasury Inspector General for Tax Administration (TIGTA): 1125 15th Street NW., Suite 700A, Washington, DC 20005.

d. Special Inspector General for the Troubled Asset Relief Program (SIGTARP), 1801 L Street NW., Washington, DC 20220.

(2) Alcohol and Tobacco Tax and Trade Bureau (TTB): 1310 G St. NW., Washington, DC 20220.

(3) Office of the Comptroller of the Currency (OCC): 400 7th Street SW., Washington, DC 20024.

(4) Bureau of Engraving and Printing (BEP): 14th & C Streets SW., Washington, DC 20228.

(5) Fiscal Service (FS): 401 14th Street SW., Washington, DC 20227.

(6) Internal Revenue Service (IRS): 1111 Constitution Avenue NW., Washington, DC 20224.

(7) United States Mint (MINT): 801 9th Street NW., Washington, DC 20220.

(8) FS: 999 E Street NW., Washington, DC 20239.

(9) Financial Crimes Enforcement Network (FinCEN), Vienna, VA 22183-0039.

Categories of individuals covered by the system:

Covered individuals include persons who file complaints alleging discrimination or violation of their rights under the statutes identified below (Authority for Maintenance) and covered entities (e.g., recipients of financial assistance from Treasury such as grantees and sub-grantees), whether individuals, organizations or institutions, investigated by OCRD as a result of allegations of discrimination or through compliance reviews conducted by OCRD. Covered individuals also include persons who submit correspondence to OCRD related to other compliance activities (e.g., outreach and public education), and other correspondence unrelated to a complaint or review and requiring response by OCRD.

Categories of records in the system:

The system encompasses a variety of records having to do with complaints, compliance reviews, and correspondence. The complaint files and log include complaint allegations, information gathered during the complaint investigation, findings and results of the investigation, and correspondence relating to the investigation, as well as status information for all complaints.

Equivalent types of information are maintained for reviews and correspondence activities (namely information gathered, findings, results, correspondence and status).

Authority for maintenance of the system:

Title VI of the 1964 Civil Rights Act of 1964; sections 504 and 508 of the Rehabilitation Act of 1973; the Age Discrimination Act of 1975; and Title IX of the Education Amendments Act of 1972.

Purpose(s):

The complaint files and other records will be used to enforce and ensure compliance with the legal authorities listed above. Treasury uses the information in this system to investigate complaints and to obtain compliance with civil rights laws.

The system is used for the investigation of complaints and in reviewing recipients of Treasury financial assistance to determine if these programs are in compliance with the Federal laws which prohibit discrimination on the basis of race, color, national origin, sex, age, and disability. In addition, the system contains case files developed in investigating complaints and in reviewing actions within Treasury to determine if its conducted programs and activities are in compliance with the Federal laws. The system also contains annual and bi-annual statistical data submitted to and used by the OCRD in monitoring the compliance status of recipients of Department of the Treasury financial assistance.

Routine uses of records maintained in the system, including categories of users and the purposes of such uses:

These records may be used to disclose pertinent information to:

(1) Appropriate Federal agencies responsible for a civil rights action or, prosecuting a violation of, or enforcing, or implementing, a statute, rule, regulation, or order, where Treasury becomes aware of an indication of a potential violation of civil or criminal law or regulation, rule or order.

(2) Provide information to a congressional office in response to an inquiry made at the request of the individual to whom the record pertains;

(3) Another Federal agency, to a court, or a party in litigation before a court or in an administrative proceeding being conducted by a Federal agency, when the Federal Government is a party to the judicial or administrative proceeding. In those cases where the Federal Government is not a party to the proceeding, records may be disclosed if a subpoena has been signed by a court of competent jurisdiction.

(4) The National Archives and Records Administration (“NARA”) for use in its records management inspections and its role as an Archivist.

(5) The United States Department of Justice for the purpose of representing or providing legal advice to Treasury in a proceeding before a court, adjudicative body, or other administrative body before which Treasury is authorized to appear, when such proceeding involves:

(A) Treasury or any component thereof;

(B) Any employee of Treasury in his or her official capacity;

(C) Any employee of Treasury in his or her individual capacity where the Department of Justice or Treasury has agreed to represent the employee;

(D) The United States, when Treasury determines that litigation is likely to affect Treasury or any of its components.

(6) Contractors and their agents, grantees, experts, consultants, and others performing or working on a contract, service, grant, cooperative agreement, or other assignment for Treasury, when necessary to accomplish an agency function related to this system of records. Individuals provided information under this routine use are subject to the same Privacy Act requirements and limitations on disclosure as are applicable to Treasury officers and employees.

(7) Appropriate agencies, entities, and persons when: (a) Treasury suspects or has confirmed that the security or confidentiality of information in the system of records has been compromised; (b) Treasury has determined that as a result of the suspected or confirmed compromise that there is a risk of harm to economic or property interests, identity theft or fraud, or harm to the security or integrity of this system or other systems or programs (whether maintained by Treasury or another agency or entity) that rely upon the compromised information; and (c) the disclosure made to such agencies, entities, and persons is reasonably necessary to assist in connection with Treasury's efforts to respond to the suspected or confirmed compromise and prevent, minimize, or remedy such harm.

Policies and practices for storing, retrieving, accessing, retaining, and disposing of records in the system:

Storage:

Paper records, file folders and/or electronic media.

Retrievability:

In the case of administrative complaints, records are indexed by the complainant's name. In the case of compliance reviews, records are indexed by the name of the recipient of financial assistance.

Safeguards:

The civil rights complaint and compliance file system will conform to applicable law and policy governing the privacy and security of Federal records. These include but are not limited to the Privacy Act of 1984, and the Paperwork Reduction Act of 1995. Only authorized users have access to the records in the system. Specific access is structured around need and is determined by the person's role in the organization.

Printed materials are filed in secure cabinets in secure Federal buildings with access based on need.

Retention and disposal:

Documents related to complaints and reviews are retained at OCRD for three years from the date the complaint is closed and then are archived at the National Archives and Records Administration for 15 years. Correspondence is retained for one year following the end of the fiscal year in which processed.

System manager(s) and address:

Department of the Treasury: Official prescribing policies and practices: Associate Chief Human Capital Officer for Civil Rights and Diversity.

The system managers for the Treasury components are:

(1) Treasury: OCRD, External Civil Rights Program Manager, 1500 Pennsylvania Avenue NW., Washington, DC 20220.

(2) a. DO: Office of EEO, EEO Director, 1500 Pennsylvania Avenue NW., Washington, DC 20220.

b. OIG: EEO and Diversity Manager, 740 15th Street NW., Suite 500, Washington, DC 20220.

c. TIGTA: EEO Program Manager, 1125 15th Street NW., Suite 700A, Washington, DC 20005.

(d) SIGTARP: EEO Program Manager, 1801 L Street NW., 3rd Floor, Washington, DC 20220.

(3) TTB: EEO Officer, 1310 G Street NW., Suite 300W, Washington, DC 20220.

(4) OCC: Director, Workplace Fairness and Equal Opportunity, 400 7th Street SW., Washington, DC 20024.

(5) BEP: Chief, Office of Equal Opportunity and Diversity Management, 14th and C Street SW., Room 639-17, Washington, DC 20228.

(6) FS: EEO Officer, PG Center, Building 2, Room 137, 3700 East-West Highway, Hyattsville, MD 20782.

(7) IRS: Director, Civil Rights Division, 1111 Constitution Avenue NW., Suite 2219, Washington, DC 20224.

(8) U.S. Mint: Chief, Chief, Diversity Management and Civil Rights, 801 9th Street NW., 3rd Floor, Washington, DC 20220.

(9) FS: EEO Officer, 200 3rd Street, Room 102, Parkersburg, WV 26106.

(10) FinCEN: Chief, Outreach and Workplace Solutions, 2070 Chain Bridge Road, Suite 200, Vienna, VA 22182.

Notification procedure:

Individuals seeking notification and access to any record contained in this system of records, or seeking to contest its content, may inquire in writing in accordance with instructions appearing at 31 CFR part 1, subpart C, appendices A-M. Requests for information and specific guidance on where to send requests for records may be addressed to: Privacy Act Request, DO, Director, Disclosure Services Department of the Treasury, 1500 Pennsylvania Avenue NW., Washington, DC 20220.

Record access procedures:

See “Notification Procedure” above.

Contesting record procedures:

See “Notification Procedure” above.

Record source categories:

Information is provided by Treasury employees, complainants and covered entities.

Records exempted from certain provisions of the act:

Certain records in this system are exempt from 5 U.S.C. 552a(c)(3), (d)(1), (2), (3), and (4), (e)(1), (e)(4)(G), (H),and (I), and (f) of the Privacy Act pursuant to 5 U.S.C. 552a(k)(2). See 31 CFR 1.36. Show citation box

TREASURY .014

System name:

Department of the Treasury SharePoint User Profile Services—Treasury/DO.

System location:

These records are located in the Department of the Treasury's (Treasury) Office of Privacy, Transparency, and Records, and any other office within a Treasury bureau where the data was entered on the site. The locations at which the system is maintained are:

(1) a. Departmental Offices: 1500 Pennsylvania Ave. NW., Washington, DC 20220.

b. The Office of Inspector General: 740 15th Street NW., Washington, DC 20220.

c. Treasury Inspector General for Tax Administration: 1125 15th Street NW., Suite 700A, Washington, DC 20005.

d. Special Inspector General for the Troubled Asset Relief Program (SIGTARP), 1801 L Street NW., Washington, DC 20220.

(2) Alcohol and Tobacco Tax and Trade Bureau: 1310 G Street NW., Washington, DC 20220.

(3) Office of the Comptroller of the Currency: 400 7th St. SW., Washington, DC 20024.

(4) Bureau of Engraving and Printing: 14th & C Streets SW., Washington, DC 20228.

(5) Fiscal Service: 401 14th Street SW., Washington, DC 20227.

(6) Internal Revenue Service: 1111 Constitution Avenue NW., Washington, DC 20224.

(7) United States Mint: 801 9th Street NW., Washington, DC 20220.

(8) Financial Crimes Enforcement Network: 2070 Chain Bridge Road, Vienna, VA 22183.

Categories of individuals covered by the system:

Treasury employees, detailees, contractors, and interns.

Categories of records in the system:

Name; name of department/office/bureau; job title; office work and cell phone numbers; work email address; office fax number; office building location; assistant/alternate point of contact (optional); phonetic name (optional); skills/experience (optional); educational background (optional); status message (optional), and photograph (optional).

Authority for maintenance of the system:

5 U.S.C. 301.

Purpose(s):

The purpose of this system is to create a central platform through which Treasury and its bureaus' employees, detailees, contractors, and interns may collaborate and exchange information in order to increase operational efficiency.

Routine uses of records maintained in the system, including categories of users and the purposes of such uses:

These records may be used to:

(1) Disclose pertinent information to appropriate federal, foreign, state, local, tribal, or other public authorities or self-regulatory organizations responsible for investigating or prosecuting the violations of, enforcing, or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a court order, or in connection with criminal law proceedings or mediation/alternative dispute resolution;

(3) Provide information to a congressional office in response to an inquiry made at the request of the individual to whom the record pertains;

(4) Disclose information to the United States Department of Justice for the purpose of representing or providing legal advice to Treasury in a proceeding before a court, adjudicative body, or other administrative body before which Treasury is authorized to appear, when such proceeding involves:

(A) Treasury or any component thereof;

(B) Any employee of Treasury in his or her official capacity;

(C) Any employee of Treasury in his or her individual capacity where the Department of Justice or Treasury has agreed to represent the employee;

(D) The United States, when Treasury determines that litigation is likely to affect Treasury or any of its components.

(5) Disclose information to contractors and their agents, experts, consultants, and others performing or working on a contract, service, grant, cooperative agreement, or other assignment for Treasury, when necessary to accomplish an agency function related to this system of records;

(6) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The electronic records are stored on magnetic disc, tape, digital media, and CD-ROM.

Retrievability:

Records may be retrieved by name; department; name of office/bureau; job title; manager/supervisor; office work and cell phone; work email address; office fax number; office building location; assistant/alternate point of contact; phonetic name; skills/experience; educational background; and status message.

Safeguards:

Records in this system are safeguarded in accordance with applicable rules and policies, including all applicable Treasury automated systems security and access policies. Strict controls have been imposed to minimize the risk of compromising the information that is being stored. Access to the type and amount of data is governed by privilege management software and policies developed and enforced by federal government personnel and are determined by specific roles and responsibilities. Procedural and physical safeguards, such as personal accountability, will be utilized. Certified system management personnel are responsible for maintaining the system integrity and the data confidentiality.

Retention and disposal:

To the extent there are records identified, they will be destroyed in accordance with the appropriate disposition schedule approved by the National Archives and Records Administration. Non-record material will be removed when no longer deemed necessary by the system owner.

System Manager and address:

a. Deputy Assistant Secretary for Information Technology and Chief Information Officer, 1500 Pennsylvania Avenue NW., Washington, DC 20020;

b. Deputy Assistant Secretary for Privacy, Transparency, and Records, 1500 Pennsylvania Avenue NW., Washington, DC 20020.

Notification procedure:

Individuals seeking notification and access to any record contained in this system of records, or seeking to contest its content, may inquire in writing in accordance with instructions appearing at 31 CFR part 1, subpart C, Appendices A-M. Requests for information and specific guidance on where to send requests for records may be addressed to: Privacy Act Request, DO, Director, Disclosure Services, Department of the Treasury, 1500 Pennsylvania Avenue NW., Washington, DC 20220.

Record access procedures:

See “Notification procedure” above.

Contesting record procedures:

See “Notification procedure” above.

Record source categories:

Records are obtained from Active Directory, Treasury employees, detailees, contractors, and interns.

Exemptions claimed for the system:

None.

TREASURY .015

System name:

General Information Technology Access Account Records—Treasury.

System location:

The records are located at Main Treasury and in other Treasury bureaus and offices, both in Washington, DC and at field locations as follows:

(1) Departmental Offices: 1500 Pennsylvania Ave. NW., Washington, DC 20220;

(2) Alcohol and Tobacco Tax and Trade Bureau: 1310 G St. NW., Washington, DC 20220.

(3) Office of the Comptroller of the Currency: Constitution Center, 400 Seventh St. SW., Washington, DC 20024;

(4) Fiscal Service: Liberty Center Building, 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: Vienna, VA 22183;

(9) Special Inspector General for the Troubled Asset Relief Program (SIGTARP): 1801 L St. NW., Washington, DC 20220;

(10) Office of Inspector General: 740 15th St. NW., Washington, DC 20220; and

(11) Office of the Treasury Inspector General for Tax Administration: 1125 15th St. NW., Suite 700A, Washington, DC 20005.

Categories of individuals covered by the system:

• All persons who are authorized to access Treasury information technology resources, including employees, contractors, grantees, fiscal agents, financial agents, interns, detailees, and any lawfully designated representative of the above as well as representatives of federal, state, territorial, tribal, local, international, or foreign government agencies or entities, in furtherance of the Treasury mission.

• Individuals who serve on Treasury boards and committees;

• Individuals who provide personal information in order to facilitate access to Treasury information technology resources;

• Industry points-of-contact providing business contact information for conducting business with government agencies;

• Industry points-of-contact emergency contact information in case of an injury or medical notification;

• Individuals who voluntarily join a Treasury-owned and operated web portal for collaboration purposes; and

• Individuals who request access but are denied, or who have had their access to Treasury information systems revoked.

Categories of records in the system:

• Social Security number;

• Business name;

• Job title;

• Business contact information;

• Personal contact information;

• Pager numbers;

• Others phone numbers or contact information provided by individuals while on travel or otherwise away from the office or home;

• Citizenship;

• Level of access;

• Home addresses;

• Business addresses;

• Personal and business electronic mail addresses of senders and recipients;

• Justification for access to Treasury computers, networks, or systems;

• Verification of training requirements or other prerequisite requirements for access to Treasury computers, networks, or systems;

• Records on the authentication of a request for access to a Treasury IT resource, including names, phone numbers of other contacts, and positions or business/organizational affiliations and titles of individuals who can verify that the individual seeking access has a need for access to a Treasury IT resource.

• Records on access to Treasury computers and networks including user IDs and passwords;

• Registration numbers or IDs associated with Treasury information technology resources;

• Date and time of access to Treasury IT resources;

• Tax returns and tax return information;

• Logs of activity when accessing and using Treasury information technology resources;

• Internet Protocol address of visitors to Treasury Web sites (a unique number identifying the computer from which a member of the public or others access Treasury IT resources); and

• Logs of individuals' internet activity while using Treasury IT resources.

Authority for maintenance of the system:

44 U.S.C. 3101; EO 9397, as amended by EO 13487; and 44 U.S.C. 3534.

Purposes:

This system will allow Treasury to collect a discrete set of personally identifiable information in order to allow authorized individuals access to, or interactions with, Treasury information technology resources, and allow Treasury to track use of its information technology resources. The system enables Treasury to maintain: account information required for approved access to information technology; lists of individuals who are appropriate organizational points of contact; and lists of individuals who are emergency points of contact. The system will also enable Treasury to provide individuals access to certain meetings and programs where additional information is required and, where appropriate, facilitate collaboration by allowing individuals in the same operational program to share information.

Routine uses of records maintained in the system, including categories of users and the purposes of such uses:

Disclosure of tax returns and tax return information may be made only as allowed by 26 U.S.C. 6103. In addition to those disclosures generally permitted under 5 U.S.C. 552a (b) of the Privacy Act, all or a portion of the records or information contained in this system may be disclosed outside Treasury as a routine use pursuant to 5 U.S.C. 552a (b) (3), as follows:

A. To the Department of Justice (including United States Attorneys' Offices) or other federal agencies conducting litigation or in proceedings before any court or adjudicative or administrative body, when it is relevant or necessary to the litigation and one of the following is a party to the litigation or has an interest in such litigation:

1. Treasury or any component thereof;

2. Any employee of Treasury in his/her official capacity;

3. Any employee of Treasury in his/her individual capacity where the Department of Justice or Treasury has agreed to represent the employee; or

4. The United States or any agency thereof.

B. To a congressional office from the record of an individual in response to an inquiry from that congressional office made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. Treasury suspects or has confirmed that the security or confidentiality of information in the system of records has been compromised;

2. The disclosure made to such agencies, entities, and persons as is reasonably necessary to assist in connection with Treasury's efforts to respond to the suspected or confirmed compromise and prevent, minimize, or remedy such harm.

F. To contractors and their agents, grantees, experts, consultants, fiscal agent, financial agents, and others performing or working on a contract, service, grant, cooperative agreement, or other assignment for Treasury, when necessary to accomplish an agency function related to this system of records. Individuals provided information under this routine use are subject to the same Privacy Act requirements and limitations on disclosure as are applicable to Treasury officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To sponsors, employers, contractors, facility operators, grantees, experts, fiscal agents, financial agents, and consultants in connection with establishing an access account for an individual or maintaining appropriate points of contact and when necessary to accomplish a Treasury mission function or objective related to this system of records.

I. To other individuals in the same operational program supported by an information technology resource, where appropriate notice to the individual has been made that his or her contact information will be shared with other members of the same operational program in order to facilitate collaboration.

J. To federal agencies such as the Office of Personnel Management, the Merit Systems Protection Board, the Office of Management and Budget, the Federal Labor Relations Authority, the Government Accountability Office, and the Equal Employment Opportunity Commission in the fulfillment of these agencies' official duties.

K. To international, federal, state, local, tribal, or private entities for the purpose of the regular exchange of business contact information in order to facilitate collaboration for official business.

L. To the news media and the public, with the approval of the Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

Policies and practices for storing, retrieving, accessing, retaining, and disposing of records in the system:

Storage:

Records in this system are on paper and/or in digital or other electronic form. Digital and other electronic images are stored on a storage area network in a secured environment. Records, whether paper or electronic, may be stored at the Treasury Headquarters or at the bureau or office level.

Retrievability:

Information may be retrieved, sorted, and/or searched by an identification number assigned by computer, by facility, by business affiliation, email address, or by the name of the individual, or other employee data fields previously identified in this System of Records Notice.

Safeguards:

Information in this system is safeguarded in accordance with applicable laws, rules and policies, including Treasury Directive 85-01, Department of the Treasury Information Technology (IT) Security Program. Further, Treasury .015—General Information Technology Access Account Records system of records security protocols will meet multiple National Institute of Standards and Technology security standards from authentication to certification and authorization. Records in the Treasury .015—General Information Technology Access Account Records system of records will be maintained in a secure, password protected electronic system that will utilize security hardware and software to include: Multiple firewalls, active intruder detection, and role-based access controls. Additional safeguards will vary by component and program. All records are protected from unauthorized access through appropriate administrative, physical, and technical safeguards. These safeguards include restricting access to authorized personnel who have a “need to know,” using locks, and password protection identification features. Treasury file areas are locked after normal duty hours and the facilities are protected by security personnel who monitor access to and egress from Treasury facilities.

Retention and disposal:

Records are securely retained and disposed of in accordance with the National Archives and Records Administration's General Records Schedule 24, section 6, “User Identification, Profiles, Authorizations, and Password Files.” Inactive records will be destroyed or deleted 6 years after the user account is terminated or password is altered, or when no longer needed for investigative or security purposes, whichever is later.

System manager(s) and address:

DASIT/CIO, Department of the Treasury, 1500 Pennsylvania Ave. NW., Washington, DC 20220.

Notification procedure:

Individuals seeking notification of and access to any record contained in this system of records, or seeking to contest its content, may submit a request in writing, in accordance with Treasury's Privacy Act regulations (located at 31 CFR 1.26), to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

No specific form is required, but a request must be written and:

• Be signed and either notarized or submitted under 28 U.S.C. 1746, a law that permits statements to be made under penalty of perjury as a substitute for notarization;

• State that the request is made pursuant to the FOIA and/or Privacy Act disclosure regulations;

• Include information that will enable the processing office to determine the fee category of the user;

• Addressed to the bureau that maintains the record (in order for a request to be properly received by the Department, the request must be received in the appropriate bureau's disclosure office);

• Reasonably describe the records;

• Give the address where the determination letter is to be sent;

• State whether or not the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

You may also submit your request online at https://rdgw.treasury.gov/foia/pages/gofoia.aspx and call 1-202-622-0930 with questions.

Record access procedures:

See “Notification procedure” above.

Contesting record procedures:

See “Notification procedure” above.

Record source categories:

Information contained in this system is obtained from affected individuals, organizations, and facilities; public source data; other government agencies; and information already in other Treasury records systems.

Exemptions claimed for the system:

None.

TREASURY .016

System name:

Reasonable Accommodations Records—Treasury.

System location:

Department of the Treasury, 1500 Pennsylvania Ave. NW., Washington, DC 20220. These records are located in personnel, EEO, or designated offices in the bureaus in which the reasonable accommodations were filed. The locations at which the system is maintained are:

(1) Departmental Offices: 1500 Pennsylvania Ave. NW., Washington, DC 20220;

(2) Alcohol and Tobacco Tax and Trade Bureau: 1310 G St. NW., Washington, DC 20220.

(3) Office of the Comptroller of the Currency: Constitution Center, 400 Seventh St. SW., Washington, DC 20024;

(4) Fiscal Service: Liberty Center Building, 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: P.O. Box 39, Vienna, VA 22183-0039;

(9) Special Inspector General for the Troubled Asset Relief Program (SIGTARP): 1801 L St. NW., Washington, DC 20220;

(10) Office of Inspector General: 740 15th St. NW., Washington, DC 20220; and

(11) Office of the Treasury Inspector General for Tax Administration: 1125 15th St. NW., Suite 700A, Washington, DC 20005.

Categories of individuals covered by the system:

Categories of individuals covered by this system include applicants for employment and employees who request or receive reasonable accommodations under the Rehabilitation Act of 1973 or ADAAA, or leave under the Family and Medical Leave Act of 1993 (FMLA). This also includes participants in Treasury programs and activities, visitors at Treasury facilities, authorized individuals or representatives (e.g., family member or attorney) who request a reasonable accommodation on behalf of an applicant for employment or employee, as well as former employees and members of the public who request or receive a reasonable accommodation or leave under the FMLA during their employment with Treasury or when visiting a Treasury facility.

Categories of records in the system:

• Requestor's status (applicant or anybody who identifies or recognizes the need for an accommodation at a Treasury facility);

• Name of the person who requires the accommodation;

• Address, phone, and email of the person who requires accommodations;

• Date of request;

• Meeting or other event for which request was made (room number, date and time of meeting/event);

• Program or activity for which request was made;

• Jobs (occupational series, grade level, and bureau or office) for which reasonable accommodation was requested;

• Information concerning the nature of the disability and the need for accommodation, including appropriate medical documentation when the disability and/or need for accommodation is not obvious or the accommodation cannot be easily provided with little effort or expense; and

• Medical documentation supporting the reasonable accommodation request should be kept in a confidential file separate and apart from the requestor's Official Personnel Folder, Employee Performance File, or drop file.

Information concerning the nature of the disability and need for accommodation includes:

• Medical documentation provided by the requester;

• Type(s) of accommodation(s) requested;

• Expense(s) associated with the requested accommodation;

• Whether the request came from someone planning to visit a Treasury facility;

• Whether an accommodation requested was pre-employment, during employment, or post-employment with the Treasury or bureau;

• How the requested accommodation would assist in job performance, participation in a Treasury program or activity, or attendance at a Treasury-sponsored meeting or event;

• The amount of time taken to process the request;

• Whether the request was granted or denied and reason; and

• The sources of technical assistance consulted in trying to identify a possible reasonable accommodation.

Authority for maintenance of the system:

The Rehabilitation Act of 1973, §§ 501 and 504; ADAAA; Executive Order 13164 (July 28, 2000); and Executive Order 13548 (July 26, 2010).

Purpose(s):

The purpose of this system is to allow Treasury and its bureaus to collect and maintain records on individuals who seek accommodations to facilitate their participation in a Treasury program or activity, their attendance at a meeting, training, conference or event at a Treasury facility or sponsored by Treasury, applicants for employment who have disabilities, and employees with disabilities who request or receive reasonable accommodation by the Department as the Rehabilitation Act of 1973 and the ADAAA require. Another purpose of this system is to track and report the processing of requests for reasonable accommodation Treasury-wide to comply with applicable laws and regulations and to preserve and maintain the confidentiality of information provided in support of the accommodation request.

Routine uses of records maintained in the system, including categories of users and the purposes of such uses:

These records and information in these records may be disclosed from the system as follows:

A. To medical personnel to meet a bona fide medical emergency;

B. To another federal agency, a state or local agency, a court, or a party in litigation before a court or in an administrative proceeding being conducted by a federal or state or local agency when the Government is a party to the judicial or administrative proceeding;

C. To a congressional office from the record of an individual in response to an inquiry from the congressional office made at the request of the individual; and

D. To an authorized appeal grievance examiner, formal complaints examiner, administrative judge, equal employment opportunity investigator, arbitrator or other duly authorized official engaged in investigation or settlement of a grievance, complaint or appeal filed by an employee;

E. To the National Archives and Records Administration (NARA) or other federal government agencies pursuant to general records management and records management inspections conducted under the authority of 44 U.S.C. 2904 and 2906;

F. To an actual or potential party to litigation or the party's authorized representative for the purpose of negotiation or discussion on such matters as settlement, plea bargaining, or in information discovery proceedings;

G. To contractors, grantees, experts, consultants, students, interns, and others performing or working on a contract, service, grant, cooperative agreement, or other assignment for the federal government, when necessary to accomplish an agency function related to this system of records; and

H. To a Member of Congress or staff acting upon the Member's behalf when the Member or staff requests the information on behalf of an individual who is the subject of the record.

Disclosure to consumer reporting agencies:

None.

Policies and practices for storing, retrieving, accessing, retaining, and disposing of records in the system:

Storage:

Records in this system are on paper and/or in digital or other electronic form. Digital and other electronic images are stored on a storage area network in a secured environment. Records, whether paper or electronic, may be stored in a separate, secure location at the Treasury Headquarters or at the bureau or office level.

Retrievability:

Records may be retrieved by name of the requester, employing bureau or office, or any unique identifying number assigned to the request if applicable.

Safeguards:

Records in this system are safeguarded in accordance with applicable rules and policies, including all applicable Treasury automated systems security and access policies. Strict controls have been imposed to minimize the risk of compromising the information. Access to the computer system containing the records in this system is limited to those individuals who have a need to know the information for the performance of their official duties and who have appropriate clearances or permissions.

All medical information, including information about functional limitations and reasonable accommodation needs obtained in connection with a request for reasonable accommodation must be kept confidential and shall be maintained in secure files separate from the Official Personnel Folder, Employee Performance File, or drop file. Additionally, employees who obtain or receive such information are strictly bound by these confidentiality requirements. Whenever medical information is disclosed, the individual disclosing the information must inform the information recipients regarding the confidentiality requirements that the recipient must continue to apply to the information after it is received.

Retention and disposal:

In accordance with NARA General Records Schedule (GRS) 1 Section 24 “Reasonable Accommodation Request Records” this schedule includes all requests for reasonable accommodation and/or assistive technology devices and services offered through the agency or the Computer/Electronic Accommodation Program that are made by or on behalf of applicants, current or former employees. Also included are medical records, supporting notes and documentation, as well as procedures and records related to processing, deciding, implementing, and tracking requests for reasonable accommodation(s). Disposition of records follows:

A. General Files—Destroy three years after supersession or when no longer needed for reference, whichever is later. (N1-GRS-04-2 item 1a);

B. Employee Case Files—Destroy three years after employee separation from the agency or all appeals are concluded, whichever is later. (N1-GRS-04-2 item 1b);

C. Supplemental Files—Destroy three years after end of fiscal year in which accommodation is decided or all appeals are concluded, whichever is later. (N1-GRS-04-2 item 1c). Note: These records are neither part of an employee's OPF nor part of a supervisor's unofficial personnel file;

D. Tracking System—Delete/destroy three years after compliance report is filed or when no longer needed for reference. (N1-GRS-04-2 item 1d).

System manager(s) and address:

EEO Program Manager (202-622-0341), Office of Civil Rights and Diversity, Department of the Treasury, 1500 Pennsylvania Ave. NW., Washington, DC 20220.

Records pertaining to reasonable accommodations filed at the Departmental level: EEO Program Manager (202-622-0341), Office of Civil Rights and Diversity, Department of the Treasury, 1550 Pennsylvania Ave. NW., Washington, DC 20220. The locations at which the system is maintained by Treasury's bureaus are:

(1) Departmental Offices: 1500 Pennsylvania Ave. NW., Washington, DC 20220;

(2) Alcohol and Tobacco Tax and Trade Bureau: 1310 G St. NW., Washington, DC 20220;

(3) Office of the Comptroller of the Currency: Constitution Center, 407 Seventh St. SW., Washington, DC 20024;

(4) Financial Management Service: 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: P.O. Box 39, Vienna, VA 22183-0039;

(9) Special Inspector General for the Troubled Asset Relief Program (SIGTARP): 1801 L St. NW., Washington DC 20220;

(10) The Office of Inspector General: 740 15th St. NW., Washington, DC 20220; and

(11) Treasury Inspector General for Tax Administration: 1125 15th St. NW., Suite 700A, Washington, DC 20005.

Notification procedure:

Individuals seeking notification of and access to any record contained in this system of records, or seeking to contest its content, may submit a request in writing in accordance with Treasury's Privacy Act regulations (located at 31 CFR 1.26) to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

The request must be signed, and must either be notarized or submitted under 28 U.S.C. 1746, a law that permits statements to be made under penalty of perjury as a substitute for notarization. While no specific form is required, you may submit your request online at https://rdgw.treasury.gov/foia/pages/gofoia.aspx or call for 1-202-622-0930 for questions. The requester must submit a written and signed request that:

• States that the request is made pursuant to the FOIA and/or Privacy Act disclosure regulations;

• Includes information that will enable the processing office to determine the fee category of the user;

• Is addressed to the bureau that maintains the record (in order for a request to be properly received by the Department, the request must be received in the appropriate bureau's disclosure office);

• Reasonably describe the records;

• Gives the address where the determination letter is to be sent;

• States whether or not the requester wishes to inspect the records or have a copy made without first inspecting them; and

• Include a firm agreement from the requester to pay fees for search, duplication or review, as appropriate. In the absence of a firm agreement to pay, the requester may submit a request for a waiver or reduction of fees, along with justification of how such a waiver request meets the criteria for a waiver or reduction of fees found in the FOIA statute at 5 U.S.C. 552(a)(4)(A)(iii).

This bulleted information will assist the FOIA and Transparency staff in conducting an effective search for your records.

Record access procedures:

See “Notification procedure” above.

Contesting record procedures:

See “Notification procedure” above.

Record source categories:

Information is obtained from applicants for employment with disabilities as well as employees with disabilities who requested or received reasonable accommodations from the Treasury or a bureau as required by the Rehabilitation Act of 1973 and the ADAAA.

Exemptions claimed for the system:

None.

TREASURY .017

System name:

Correspondence and Contact Information—Treasury

System location:

The records are located in Treasury bureaus and offices, both in Washington, DC and at field locations as follows:

(1) Departmental Offices: 1500 Pennsylvania Ave. NW., Washington, DC 20220;

(2) Alcohol and Tobacco Tax and Trade Bureau: 1310 G St. NW., Washington, DC 20220.

(3) Office of the Comptroller of the Currency: Constitution Center, 400 Seventh St. SW., Washington, DC 20024;

(4) Fiscal Service: Liberty Center Building, 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: Vienna, VA 22183;

(9) Special Inspector General for the Troubled Asset Relief Program (SIGTARP): 1801 L St. NW., Washington, DC 20220;

(10) Office of Inspector General: 740 15th St. NW., Washington, DC 20220;

(11) Office of the Treasury Inspector General for Tax Administration: 1125 15th St. NW., Suite 700A, Washington, DC 20005; and

(12) Financial Stability Oversight Council (FSOC): 1500 Pennsylvania Ave. NW., Washington, DC 20220.

Categories of individuals covered by the systems:

• Individuals who serve on Treasury boards and committees;

• Third parties who identify potential contacts or who provide information Treasury uses to determine an individual's inclusion on a mailing or contact list;

• Individuals who provide contact information, or otherwise consent to having their contact information used, for facilitating communication with Treasury, including but not limited to, members of the public, government officials, representatives of industry, media, non-profits, academia, and others who express an interest in Treasury-related programs and activities;

• Individuals who request information or inclusion on mailing lists for information or updates from Treasury or one of its bureaus or offices, concerning specific issues or topics;

• Treasury employees, contractors, grantees, fiscal agents, financial agents, interns, and detailees, members of the public, government officials, and representatives of industry, media, non-profits, academia, and others, paid or non-paid, attending a Treasury sponsored event, work activity, or an event in which Treasury participated, including meetings, events, or conferences;

• Emergency contact information for the individual point-of-contact for organizations in the event that individual suffers an injury on Treasury premises;

• Alternative points-of-contact contact information provided by individuals or organizations included in a mailing or contact list; and

• Individuals who voluntarily join a Treasury-owned and operated web portal for collaboration purposes.

Categories of records in the systems:

• Name

• Preferred name

• Business contact information including, but not limited to:

○ Business or organization name;

○ Business or organization type;

○ Business mailing address;

○ Job or functional title or business affiliation;

○ Phone number(s);

○ Mobile phone number; fax number;

○ Pager number;

○ Electronic mail (Email) addresses;

• Personal contact information, including, but not limited to:

○ Mailing address;

○ Phone number(s);

○ Mobile phone number; fax number;

○ Pager number;

○ Electronic mail (Email) addresses;

• Other contact information provided by individuals while on travel or otherwise away from the office or home, including:

○ Assistant or other similar point of contact's name, title, or contact information;

• Preferred contact method(s) and contact rules (any specific rules to be followed when considering contacting an individual);

• Communications between Treasury employees and members of the public, federal, state and local government officials, and representatives of industry, media, non-profits, and academia;

• General descriptions of particular topics or subjects of interest as related to individuals or organizations who communicate with Treasury;

• Information regarding curricula vitae, including memberships in professional societies, affiliation with standards bodies, any teaching positions held, or any publications associated with the individual;

• Travel preferences (individuals who serve on Treasury boards and committees only);

• Identification number assigned by computer in cases where created in order to retrieve information.

Authority for maintenance of the systems:

5 U.S.C. 301.

Purposes:

The systems are maintained to mail informational literature or responses to those who request it; maintain lists of individuals who attend Treasury sponsored events, conferences, work meetings and other activities, or events in which Treasury participates; maintain lists and credentials of individuals who Treasury may consult professionally in furtherance of its mission; and for other purposes for which mailing or contact lists may be created.

Routine uses of records maintained in the systems, including categories of users and the purposes of such uses:

In addition to those disclosures generally permitted under 5 U.S.C. 552a (b) of the Privacy Act, all or a portion of the records or information contained in these systems may be disclosed outside Treasury as a routine use pursuant to 5 U.S.C. 552a (b) (3), as follows:

A. To the Department of Justice (including United States Attorneys' Offices) or other federal agencies conducting litigation or in proceedings before any court or adjudicative or administrative body, when it is relevant or necessary to the litigation and one of the following is a party to the litigation or has an interest in such litigation:

1. Treasury or any component thereof;

2. Any employee of Treasury in his/her official capacity;

3. Any employee of Treasury in his/her individual capacity where the Department of Justice or Treasury has agreed to represent the employee; or

4. The United States or any agency thereof.

B. To a congressional office in response to an inquiry made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. Treasury suspects or has confirmed that the security or confidentiality of information in the system of records has been compromised;

2. The disclosure made to such agencies, entities, and persons is reasonably necessary to assist in connection with Treasury's efforts to respond to the suspected or confirmed compromise and prevent, minimize, or remedy such harm.

F. To contractors and their agents, grantees, experts, consultants, fiscal agents, financial agents, and others performing or working on a contract, service, grant, cooperative agreement, or other assignment for Treasury, when necessary to accomplish an agency function related to the system of records. Individuals provided information under this routine use are subject to the same Privacy Act requirements and limitations on disclosure as are applicable to Treasury officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person authorizing the disclosure.

H. To sponsors, employers, contractors, facility operators, grantees, experts, fiscal agents, financial agents, and consultants, paid or non-paid, in connection with establishing an access account for an individual or maintaining appropriate points of contact and when necessary to accomplish a Treasury mission function or objective related to the system of records.

I. To other individuals in the same operational program supported by an information technology resource, where appropriate notice to the individual has been made that his or her contact information will be shared with other members of the same operational program in order to facilitate collaboration.

J. To federal agencies, councils and offices, such as the Office of Personnel Management, the Merit Systems Protection Board, the Office of Management and Budget, the Federal Labor Relations Authority, the Government Accountability Office, the Financial Stability Oversight Council, and the Equal Employment Opportunity Commission in the fulfillment of these agencies' official duties.

K. To international, federal, state, local, tribal, or private entities for the purpose of the regular exchange of business contact information in order to facilitate collaboration for official business.

L. To the news media and the public, with the approval of the Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

Policies and practices for storing, retrieving, accessing, retaining, and disposing of records in the system:

Storage:

Records in these systems are on paper and/or in digital or other electronic form. Digital and other electronic images are stored on a storage area network in a secured environment. Records, whether paper or electronic, may be stored in Departmental Offices or at the bureau or office level.

Retrievability:

Information may be retrieved, sorted, and/or searched by an identification number assigned by computer, facility, business affiliation, email address, name of the individual, or other data fields previously identified in this System of Records Notice.

Safeguards:

Information in these systems is safeguarded in accordance with applicable laws, rules, and policies, including Treasury Directive 85-01, Department of the Treasury Information Technology (IT) Security Program. Further, security protocols for these systems of records will meet multiple National Institute of Standards and Technology security standards from authentication to certification and authorization. Records in these systems of records will be maintained in a secure, password protected electronic system that will use security hardware and software to include: multiple firewalls, active intruder detection, and role-based access controls. Additional safeguards will vary by component and program. All records are protected from unauthorized access through appropriate administrative, physical, and technical safeguards. These safeguards include restricting access to authorized personnel who have a “need to know,” using locks, and password protection identification features. Treasury file areas are locked after normal duty hours and the facilities are protected by security personnel who monitor access to and egress from Treasury facilities.

Retention and disposal:

Records are securely retained and disposed of in accordance with the National Archives and Records Administration's General Records Schedule 12, item 2a. Files may be retained for up to three years depending on the record. For records that may be used in litigation, the files related to that litigation will be retained for three years after final court adjudication.

System manager(s) and address:

Director, Freedom of Information Act and Transparency, Office of Privacy, Transparency, and Records, 1500 Pennsylvania Avenue NW., Washington, DC 20220.

Notification procedure:

Individuals seeking notification of and access to any record contained in these systems of records, or seeking to contest its content, may submit a request in writing, in accordance with Treasury's Privacy Act regulations (located at 31 CFR 1.26), to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

No specific form is required, but a request must be written and:

• Be signed and either notarized or submitted under 28 U.S.C. 1746, a law that permits statements to be made under penalty of perjury as a substitute for notarization;

• State that the request is made pursuant to the FOIA and/or Privacy Act disclosure regulations;

• Include information that will enable the processing office to determine the fee category of the user;

• Be addressed to the bureau that maintains the record (in order for a request to be properly received by the Department, the request must be received in the appropriate bureau's disclosure office);

• Reasonably describe the records;

• Give the address where the determination letter is to be sent;

• State whether or not the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

You may also submit your request online at https://rdgw.treasury.gov/foia/pages/gofoia.aspx and call 1-202-622-0930 with questions.

Record access procedures:

See “Notification procedure” above.

Contesting record procedures:

See “Notification procedure” above.

Record source categories:

Information contained in these systems is obtained from affected individuals, organizations, and facilities; public source data; other government agencies; and information already in other Treasury records systems.

Exemptions claimed for these systems:

None.

[FR Doc. 2016-26662 Filed 11-4-16; 8:45 am]

BILLING CODE 4810-25-P